DEPARTMENT OF THE TREASURY

Office of the Comptroller of the Currency

FEDERAL RESERVE SYSTEM

FEDERAL DEPOSIT INSURANCE CORPORATION

Agency Information Collection Activities: Submission for OMB Review; Joint Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act (PRA) of 1995, the OCC, the Board, and the FDIC (the “agencies”) may not conduct or sponsor, and the respondent is not required to respond to, an information collection unless it displays a currently valid Office of Management and Budget (OMB) control number. On June 27, 2017, the agencies, under the auspices of the Federal Financial Institutions Examination Council (FFIEC), requested public comment for 60 days on a proposal to revise the Consolidated Reports of Condition and Income for a Bank with Domestic and Foreign Offices (FFIEC 031), the Consolidated Reports of Condition and Income for a Bank with Domestic Offices Only (FFIEC 041), and the Consolidated Reports of Condition and Income for a Bank with Domestic Offices Only and Total Assets Less than $1 Billion (FFIEC 051), which are currently approved collections of information. The Consolidated Reports of Condition and Income are commonly referred to as the Call Report. The proposed revisions to the FFIEC 031, FFIEC 041, and FFIEC 051 Call Reports would result in an overall reduction in burden.

The comment period for the June 2017 notice ended on August 28, 2017. As described in the SUPPLEMENTARY INFORMATION section, after considering the comments received on the proposal, the FFIEC and the agencies will proceed with the proposed reporting revisions to the FFIEC 031, FFIEC 041, and FFIEC 051. These reporting revisions relate to the deletion or consolidation of a large number of items, the raising of certain reporting thresholds, and a reduction in reporting frequency for a number of items. For small institutions filing the FFIEC 051 report, these changes affect approximately seven percent of the data items collected. The agencies will also proceed with the scope revision to the FFIEC 031 and FFIEC 041 reports to require all institutions with consolidated total assets of $100 billion or more, regardless of whether an institution has any foreign offices, to file the FFIEC 031. However, the agencies will delay the effective date of these reporting revisions and scope revision until the June 30, 2018, report date, rather than implementing them as of the March 31, 2018, report date, as originally proposed.

In addition, the agencies will proceed with the revisions to address the changes in the accounting for equity investments, with some modifications to the proposal in response to comments received. The effective date for these revisions would be the March 31, 2018, report date, as originally proposed, to coincide with the first reporting period in which the accounting changes will be adopted under U.S. generally accepted accounting principles (GAAP) by certain reporting institutions. Finally, because of concerns raised by commenters regarding the proposed revisions to the definition of “past due” assets for regulatory reporting purposes, the agencies are giving further consideration to this proposal, including its effect on and relationship to other regulatory reporting requirements, and are not proceeding with this proposed revision at this time.

The agencies are giving notice that they have sent the collection to OMB for review.

DATES: Comments must be submitted on or before February 7, 2018.

ADDRESSES: Interested parties are invited to submit written comments to any or all of the agencies. All comments, which should refer to the OMB control number(s), will be shared among the agencies.

OCC: You may submit comments, which should refer to “FFIEC 031, FFIEC 041, and FFIEC 051,” by any of the following methods:

• Email: prainfo@occ.treas.gov.

• Fax: (571) 465-4326.

• Mail: Legislative and Regulatory Activities Division, Office of the Comptroller of the Currency, 400 7th Street SW, Suite 3E-218, Washington, DC 20219.

All comments received, including attachments and other supporting materials, are part of the public record and subject to public disclosure. Do not include any information in your comment or supporting materials that you consider confidential or inappropriate for public disclosure.

You may personally inspect and photocopy comments at the OCC, 400 7th Street SW, Washington, DC 20219. For security reasons, the OCC requires that visitors make an appointment to inspect comments. You may do so by calling (202) 649-6700 or, for persons who are deaf or hearing impaired, TTY, (202) 649-5597. Upon arrival, visitors will be required to present valid government-issued photo identification and submit to security screening in order to inspect and photocopy comments.

Board: You may submit comments, which should refer to “FFIEC 031, FFIEC 041, and FFIEC 051,” by any of the following methods:

• Agency website: http://www.federalreserve.gov. Follow the instructions for submitting comments at: http://www.federalreserve.gov/generalinfo/foia/ProposedRegs.cfm.

• Federal eRulemaking Portal: http://www.regulations.gov. Follow the instructions for submitting comments.

• Email: regs.comments@federalreserve.gov. Include the reporting form numbers in the subject line of the message.

• Fax: (202) 452-3819 or (202) 452-3102.

• Mail: Ann E. Misback, Secretary, Board of Governors of the Federal Reserve System, 20th Street and Constitution Avenue NW, Washington, DC 20551.

All public comments are available from the Board's website at www.federalreserve.gov/generalinfo/foia/ProposedRegs.cfm as submitted, unless modified for technical reasons. Accordingly, your comments will not be edited to remove any identifying or contact information. Public comments may also be viewed electronically or in paper form in Room 3515, 1801 K Street NW (between 18th and 19th Streets NW), Washington, DC 20006 between 9:00 a.m. and 5:00 p.m. on weekdays.

FDIC: You may submit comments, which should refer to “FFIEC 031, FFIEC 041, and FFIEC 051,” by any of the following methods:

• Agency website: https://www.fdic.gov/regulations/laws/federal/. Follow the instructions for submitting comments on the FDIC's website.

• Federal eRulemaking Portal: https://www.regulations.gov. Follow the instructions for submitting comments.

• Email: comments@FDIC.gov. Include “FFIEC 031, FFIEC 041, and FFIEC 051” in the subject line of the message.

• Mail: Manuel E. Cabeza, Counsel, Attn: Comments, Room MB-3007, Federal Deposit Insurance Corporation, 550 17th Street NW, Washington, DC 20429.

• Hand Delivery: Comments may be hand delivered to the guard station at the rear of the 550 17th Street Building (located on F Street) on business days between 7:00 a.m. and 5:00 p.m.

Public Inspection: All comments received will be posted without change to https://www.fdic.gov/regulations/laws/federal/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW, Washington, DC 20503; by fax to (202) 395-6974; or by email to oira_submission@omb.eop.gov.

FOR FURTHER INFORMATION CONTACT: For further information about the proposed revisions to the Call Report discussed in this notice, please contact any of the agency staff whose names appear below. In addition, copies of the Call Report forms can be obtained at the FFIEC's website (https://www.ffiec.gov/ffiec_report_forms.htm).

OCC: Kevin Korzeniewski, Counsel, (202) 649-5490, or for persons who are deaf or hearing impaired, TTY, (202) 649-5597, Legislative and Regulatory Activities Division, Office of the Comptroller of the Currency, 400 7th Street SW, Washington, DC 20219.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION: The agencies propose revisions to data items reported on the FFIEC 031, FFIEC 041, and FFIEC 051 Call Reports.

Report Title: Consolidated Reports of Condition and Income (Call Report).

Form Numbers: FFIEC 031 (for banks and savings associations with domestic and foreign offices), FFIEC 041 (for banks and savings associations with domestic offices only), and FFIEC 051 (for banks and savings associations with domestic offices only and total assets less than $1 billion).

Frequency of Response: Quarterly.

Affected Public: Business or other for-profit.

OCC:

OMB Control No.: 1557-0081.

Estimated Number of Respondents: 1,297 national banks and federal savings associations.

Estimated Average Burden per Response: 47.70 burden hours per quarter to file.

Estimated Total Annual Burden: 247,468 burden hours to file.

Board:

OMB Control No.: 7100-0036.

Estimated Number of Respondents: 823 state member banks.

Estimated Average Burden per Response: 51.85 burden hours per quarter to file.

Estimated Total Annual Burden: 170,690 burden hours to file.

FDIC:

OMB Control No.: 3064-0052.

Estimated Number of Respondents: 3,668 insured state nonmember banks and state savings associations.

Estimated Average Burden per Response: 45.62 burden hours per quarter to file.

Estimated Total Annual Burden: 669,337 burden hours to file.

The proposed burden-reducing revisions to the Call Reports are the result of an ongoing effort by the agencies to reduce the burden associated with their preparation and filing and, as detailed in Appendices B, C, and D, achieve burden reductions by the removal or consolidation of numerous items, the raising of certain reporting thresholds, and a reduction in reporting frequency for certain items. The proposed revisions to the reporting of equity investments are consistent with changes in the accounting standards applicable to such investments.

The estimated average burden hours collectively reflect the estimates for the FFIEC 031, the FFIEC 041, and the FFIEC 051 reports. When the estimates are calculated by type of report across the agencies, the estimated average burden hours per quarter are 123.06 (FFIEC 031), 57.71 (FFIEC 041), and 39.38 (FFIEC 051). The burden hours for the currently approved reports are 128.05 (FFIEC 031), 74.88 (FFIEC 041), and 44.94 (FFIEC 051),¹ so the revisions in this notice would represent a reduction in estimated average burden hours per quarter by 4.99 (FFIEC 031), 17.17 (FFIEC 041), and 5.56 (FFIEC 051). The estimated burden per response for the quarterly filings of the Call Report is an average that varies by agency because of differences in the composition of the institutions under each agency's supervision (e.g., size distribution of institutions, types of activities in which they are engaged, and existence of foreign offices).

¹ See 82 FR 2444.

Type of Review: Revision and extension of currently approved collections.

General Description of Reports

These information collections are mandatory pursuant to 12 U.S.C. 161 (for national banks), 12 U.S.C. 324 (for state member banks), 12 U.S.C. 1817 (for insured state nonmember commercial and savings banks), and 12 U.S.C. 1464 (for federal and state savings associations). At present, except for selected data items and text, these information collections are not given confidential treatment.

Abstract

Institutions submit Call Report data to the agencies each quarter for the agencies' use in monitoring the condition, performance, and risk profile of individual institutions and the industry as a whole. Call Report data serve a regulatory or public policy purpose by assisting the agencies in fulfilling their missions of ensuring the safety and soundness of financial institutions and the financial system and the protection of consumer financial rights, as well as agency-specific missions affecting federal and state-chartered institutions, e.g., monetary policy, financial stability, and deposit insurance. Call Reports are the source of the most current statistical data available for identifying areas of focus for on-site and off-site examinations. The agencies use Call Report data in evaluating institutions' corporate applications, including, in particular, interstate merger and acquisition applications for which, as required by law, the agencies must determine whether the resulting institution would control more than 10 percent of the total amount of deposits of insured depository institutions in the United States. Call Report data also are used to calculate institutions' deposit insurance and Financing Corporation assessments and national banks' and federal savings associations' semiannual assessment fees.

Current Actions

I. Introduction

On June 27, 2017, the agencies requested comment for 60 days on a proposal to revise the existing Call Report requirements (FFIEC 031, FFIEC 041, and FFIEC 051).² The June 2017 proposal, as well as the creation of the FFIEC 051 and other recent revisions to the FFIEC 031 and FFIEC 041, are the result of a formal initiative launched by the FFIEC in December 2014 to identify potential opportunities to reduce burden associated with Call Report requirements for community institutions. The most significant actions under this initiative are community institution outreach efforts, internal surveys of users of Call Report data at FFIEC member entities, and the implementation of a streamlined Call Report for small institutions. A summary of the FFIEC member entities' uses of the data items retained in the Call Report schedules subject to the reporting revisions in this proposal is included in Appendix A, which is repeated from the June 2017 notice with nonsubstantive technical corrections. Additional information about the initiative can be found in the June 2017 notice and in four earlier notices related to actions taken under this initiative.³

² See 82 FR 29147 (June 27, 2017).

³ See 80 FR 56539 (September 18, 2015), 81 FR 45357 (July 13, 2016), 81 FR 54190 (August 15, 2016), and 82 FR 2444 (January 9, 2017).

The comment period for the June 2017 notice ended on August 28, 2017. General comments on the notice are summarized in Section II. In Section III, the agencies provide more details on the comments received and any changes the agencies are making in response to those comments. Section IV discusses the timing for implementing the proposed revisions to the Call Report.

II. General Comments on the Proposed Call Report Revisions

The agencies collectively received comments on the proposal from 13 entities, including banking organizations, bankers' associations, and a government entity. General comments and recommendations on the FFIEC 031, FFIEC 041, and FFIEC 051 Call Reports are included in this section. The agencies provide information regarding comments on specific aspects of the proposed revisions to the Call Reports in more detail in Section III.

A. Comments on the Overall Proposal and the Burden-Reduction Initiative

Commenters expressed mixed opinions on the June 2017 notice and the agencies' Call Report burden-reduction initiatives to date. Seven commenters representing banking organizations and bankers' associations supported the effort put forth by the agencies. One bankers' association stated that it “appreciates the time and effort the FFIEC has devoted to identifying opportunities to reduce the burdens associated with the Call Report requirements.” The commenter went on to say that the removal or change in reporting frequency of line items or increase to reporting thresholds “serves as needed clean-up of the Call Report.” Three banking organizations also “appreciate” the agencies' initiatives focused on reducing the burden associated with the Call Reports. The government entity stated it uses certain data items in the Call Report in preparing national economic reports, and encouraged the agencies to continue collecting those items.

On the other hand, the majority of the comment letters asserted that the proposed revisions to the Call Reports would provide no real savings in effort or cost for smaller institutions and that the overall reduction in burden is of limited value to such institutions. One of the banking organizations and two of the bankers' associations further indicated that reducing reporting frequency would provide only “limited relief.” These commenters noted that regardless of whether cumulative data is reported every quarter or every six months, institutions would still need to gather the data on a quarterly basis in order to produce the reported data on a semiannual basis. Two bankers' associations responded that combining data items also would not provide any relief to institutions, because processes are already in place to gather the information separately. One banking organization and one bankers' association stated that the proposed revisions would increase burden due to the system changes that would be necessary to modify the processes currently in place, such as deactivating or reactivating each quarter the reporting of data items that would change from a quarterly to a semiannual or annual reporting frequency.

The agencies recognize that not all institutions would see an immediate and large reduction in burden from the proposed revisions in the June 2017 notice. However, reducing the frequency of collection for certain data items or consolidating existing data items into fewer data items would result in institutions spending less time completing the Call Report since there would be fewer items to review prior to each quarterly submission. Also, an institution would have fewer instructions to review to determine whether it has reportable (nonzero) amounts. To the extent that an institution currently tracks granular data items that are proposed to be consolidated, there may be limited burden relief from consolidating the items. However, institutions that currently track data at an aggregate level and then must allocate that amount to the existing subcategories every quarter would see additional burden relief. Accordingly, these changes represent meaningful Call Report burden relief to institutions that do not engage in complex activities.

Furthermore, as previously mentioned, internal surveys of users of Call Report data at FFIEC member entities, including staff of the agencies, were one of the significant actions under the FFIEC's community bank Call Report burden-reduction initiative. The survey responses have been the foundation for the statutorily mandated review of the existing Call Report data items ⁴ that the agencies have been conducting over the course of the burden-reduction initiative. After completing this review, the statute directs the agencies to “reduce or eliminate any requirement to file information or schedules . . . (other than information or schedules that are otherwise required by law)” if the agencies determine that “the continued collection of such information or schedules is no longer necessary or appropriate.” The findings from the agencies' review revealed that certain information is no longer needed from some or all institutions, either on a quarterly basis or at all, and that the current level of detail is no longer needed from some or all institutions in certain Call Report schedules. Accordingly, for those Call Report data items for which the results of the statutorily mandated review have triggered these conclusions, the agencies are removing, consolidating, or reducing the reporting frequency of, or creating a new or increased reporting threshold for, the affected Call Report data items notwithstanding any system changes that institutions would need to make in response to these reporting changes.

⁴ This review is mandated by section 604 of the Financial Services Regulatory Relief Act of 2006 (12 U.S.C. 1817(a)(11)).

Finally, in an effort to address the concerns of institutions relating to the proposed reductions in frequency from quarterly to semiannual, the agencies note that the FFIEC's Central Data Repository (CDR) ⁵ allows institutions to submit data quarterly, even if the data items are only required to be reported semiannually or annually. This will permit institutions to choose to avoid any perceived burden needed to reduce the reporting frequency from the quarterly frequency required in the existing Call Report.

⁵ The CDR is a secure, shared application for collecting, managing, validating, and distributing data reported in the Call Report and the FDIC's annual Summary of Deposits survey (OMB No. 3064-0061). The CDR also processes and distributes the Uniform Bank Performance Report.

B. General Recommendations From Commenters

Three commenters suggested the agencies adopt a “short-form” Call Report to be filed for at least two quarters of the year. The short-form Call Report recommended by two of these commenters would consist only of an institution's balance sheet, income statement, and statement of changes in equity capital. The institution would file a full Call Report including all supporting schedules in the second and fourth quarters, and the short-form Call Report in the first and third quarters. The third commenter recommended including a limited number of additional schedules in the first and third quarters to report more detailed information on loans and regulatory capital, with additional schedules filed in the second and fourth quarters.

While the agencies understand the commenters' desire for a short-form Call Report, the agencies did not adopt this suggestion for the reasons noted in response to the comment letters received on the August 2016 proposal for a streamlined Call Report for small institutions.⁶ Most notably, in addition to the basic financial statements, the most streamlined quarterly report possible must also include data items required by law or regulation, along with quarterly data necessary for adequate supervision by the agencies. Furthermore, the agencies leverage a significant amount of the data reported quarterly in the more detailed general and supplemental Call Report schedules when conducting off-site monitoring and determining the scope and frequency of on-site examinations. Limiting the information collected on these schedules to semiannual could significantly impair the agencies' supervisory planning and review processes and potentially lead to a less efficient use of supervisory resources.

⁶ See 82 FR 2444 (January 9, 2017).

One commenter recommended that the FFIEC establish an industry advisory committee to develop advice and guidance on the Call Report and establish a regular forum to address technical questions and new changes to the Call Report. In response, the agencies plan to continue to offer outreach in connection with significant revisions to the Call Report, as they did with the adoption of the revised Schedule RC-R, Regulatory Capital, and with the implementation of the FFIEC 051. The agencies also receive and respond to a number of questions from individual institutions each quarter. Issues that could affect multiple institutions are often addressed through the Call Report Supplemental Instructions published quarterly or updates to the Call Report instruction book published as needed. Consistent with the PRA, the agencies also offer an opportunity for members of the banking industry to comment on proposed changes to the Call Report or to make any additional suggestions for improving, streamlining, or clarifying the Call Report.

One commenter recommended that the agencies align the proposed revisions in the Call Report with revisions to the FR Y-9C report for holding companies.⁷ The commenter stated that having differences in reporting between the Call Report and FR Y-9C can create burden for reporting firms. The agencies agree that aligning proposed revisions in the Call Report with proposed revisions to comparable data items collected in the consolidated FR Y-9C report would reduce burden for reporting holding companies. The Board will take this comment into consideration when it develops proposed revisions to the FR Y-9C report.

⁷ Consolidated Financial Statements for Holding Companies, OMB No. 7100-0128.

One commenter recommended that the agencies increase the asset-size threshold for filing the FFIEC 051 Call Report from the current $1 billion to at least $10 billion, indexed for inflation. Raising the threshold to $10 billion or higher at this time could result in a significant loss of data necessary for supervisory or other purposes from institutions with assets above $1 billion. Therefore, while the agencies are not adopting this recommendation at this time, the agencies are continuing to evaluate the appropriate scope and criteria for expanding the number of institutions eligible to file the FFIEC 051.

The agencies received three comment letters from banking organizations that highlighted the burden required for their institutions to prepare Schedule RC-R, Regulatory Capital. Reporting on Schedule RC-R is directly tied to the requirements in the agencies' regulatory capital rules.⁸

⁸ 12 CFR part 3 (OCC); 12 CFR part 217 (Board); 12 CFR part 324 (FDIC).

The agencies recently issued a proposal for modifications to simplify the regulatory capital rules.⁹ To the extent changes contained in that proposal are adopted in a final rule, the agencies would incorporate those simplifications into Schedule RC-R.

⁹ 82 FR 49984 (October 27, 2017).

One commenter stated that Schedule RC-C, Part II, is particularly burdensome to complete and should be eliminated. The agencies previously reduced the frequency of this schedule from quarterly to semiannual for institutions filing the FFIEC 051.¹⁰ However, the agencies cannot eliminate this schedule because the submission of information on small business and small farm loans is specifically required by statute.¹¹ Appendix A to the agencies' January 2017 Federal Register notice (82 FR 2444) provides information about how the agencies use the data reported in Schedule RC-C, Part II.

¹⁰ See 82 FR 2444 (January 9, 2017).

¹¹ See section 122 of the Federal Deposit Insurance Corporation Improvement Act of 1991, Public Law 102-242.

III. Specific Comments on the Proposed Call Report Revisions

A. Scope Revision

The agencies proposed to revise the scope of the FFIEC 031 Call Report to require all institutions with consolidated total assets of $100 billion or more to file this form, regardless of whether an institution has any foreign offices. The agencies proposed this change because institutions with consolidated total assets of $100 billion or more without foreign offices are considered to have a similar degree of complexity in their activities as institutions of this size with foreign offices that currently file the FFIEC 031.

The agencies received two comments opposing the proposed scope revision. One bankers' association stated that the proposal could be viewed as creating three Call Reports for larger banks, which could create a problem if the reports evolve and do not remain aligned in the future. Another bankers' association opposed the agencies' use of a size-based threshold alone (i.e., $100 billion or more in assets) to revise the scope of the FFIEC 031, rather than looking at the business model and risk profile of an institution.

The agencies are proceeding with the proposed scope revision of the FFIEC 031 to include all institutions with foreign offices and all institutions with consolidated total assets of $100 billion or more. The agencies note that this revision would affect only five institutions, as the majority of institutions with assets of $100 billion or more also have foreign offices and currently file the FFIEC 031. Currently, the FFIEC 031 and FFIEC 041 collect the same information on an institution's domestic office activities. When preparing the FFIEC 031, institutions with no foreign offices would not need to report items that request information on foreign offices, including the entirety of Schedules RI-D; RC-E, Part II; and RC-I; nor would they need to complete Schedule RC-H, which collects certain domestic office data. These institutions also would report the same amounts for “domestic offices” and “consolidated bank” in other schedules that request this breakout, which would not require these institutions to compile additional information. In addition, there is currently a single set of Call Report instructions for both the FFIEC 031 and FFIEC 041, which helps promote consistency in reporting between those versions of the Call Report and should reduce the burden of a transition for the affected institutions. As noted in the June 2017 notice, the agencies consider all institutions with $100 billion or more in total assets to be of similar complexity. Institutions of this size typically have similar business activities and risk profiles for their domestic operations, and the agencies' examiners review these domestic operations in a similar manner. Receiving information from all institutions in this size category on the same Call Report form will improve the agencies' ability to perform comparisons among these institutions' domestic operations. This proposed scope revision also has enabled the agencies to propose removing items from, or consolidating a significant number of items in, the FFIEC 041 form,¹² as the agencies believe these items are no longer necessary based on the business activities and risk profiles of institutions with domestic offices only and consolidated total assets less than $100 billion.

¹² See 82 FR 51908 (November 8, 2017).

B. Burden-Reducing Revisions

The agencies received two comments from banking organizations on the proposed revisions to Schedule RI-E to reduce the reporting frequency of the data items for significant components of “other noninterest income” and “other noninterest expense” from quarterly to annual in the FFIEC 051 and increase the percentage threshold for reporting individual components in all three versions of the Call Report. One commenter noted this revision would actually reduce burden in preparing the reports. The other commenter stated that his organization does not meet the existing thresholds to separately report noninterest income and expense components on that schedule, so the reporting burden would not change.

After considering these specific comments, as well as the comments received on the overall proposal and the burden-reduction initiative that were discussed in Section II.A. above, the agencies will proceed with the proposed burden-reducing changes to Schedule RI-E, along with all other burden-reducing changes to Call Report schedules proposed in the June 2017 notice. The agencies recognize that not every proposed change will reduce burden for every institution. However, the agencies believe that the proposed changes will reduce burden in the Call Reports as a whole, which is also reflected in a reduction in the estimated burden hours per quarter for the Call Reports.

C. Instructional Revision for the Reporting of Assets as “Past Due”

Under the current Call Report instructions, closed-end installment loans, amortizing loans secured by real estate, and other loans and lease financing receivables with payments scheduled monthly are to be reported as past due in Schedule RC-N, Past Due and Nonaccrual Loans, Leases, and Other Assets, when the borrower is in arrears two or more monthly payments. This means that a loan is to be reported as past due if two monthly payments have not been received by the close of business on the due date of the second monthly payment. Similarly, the Call Report instructions provide that open-end credit such as credit cards, check credit, and other revolving credit plans are to be reported as past due when the customer has not made the minimum payment for two or more billing cycles. The instructions also provide that, at an institution's option, loans and leases with payments scheduled monthly may be reported as past due when one scheduled payment is due and unpaid for 30 days or more.

The agencies note there is an existing widely used industry standard, known as the Mortgage Bankers Association (MBA) method, which provides that loans with payments scheduled monthly become 30 days past due if a monthly payment is not received by the end of the day immediately preceding the loan's next due date. The agencies understand that the MBA method is used by most major mortgage data repositories, including the three major credit bureaus and two major mortgage loan data processing service bureaus used by institutions. The MBA method is also used by reporting forums such as the MBA, McDash Analytics, and the OCC Mortgage Metrics Reports.

Therefore, to promote the use of a consistent standard in the industry and reduce the burden for certain institutions calculating past-due loans under two methods (i.e., one method for Call Report purposes and a different method for other reporting purposes), the agencies proposed in the June 2017 notice to modify the definition of “past due” for regulatory reporting purposes that is currently contained in the general instructions of Schedule RC-N to align with the MBA method. Specifically, under that proposal, closed-end installment loans, amortizing loans secured by real estate, and other loans and lease financing receivables with payments scheduled monthly, as well as open-end credit such as credit cards, check credit, and other revolving credit plans with payments scheduled monthly, would be reported as past due in Schedule RC-N if a payment is not received by the end of the day immediately preceding the loan's next payment due date.

The agencies received comments from two bankers' associations and three banking organizations regarding the proposed instructional revision to the definition of “past due.” These commenters generally opposed the proposed revision. All commenters cited increased burden related to operational difficulties to implement the change as well as concerns about how this definitional change would flow through to or affect other reporting requirements. Operational challenges cited by commenters include substantial processing system changes; the need to modify contracts with third-party vendors, loan securitization agreements, and other legal agreements; communication issues with loan servicing customers; and coordination issues with third-party vendors to implement the proposed revision. Other related reporting concerns include possible restatements of audited financial statements and filings with the Securities and Exchange Commission; the effect on the calculation of the allowance for loan and lease losses; the impact on the risk weighting associated with delinquent and nonaccrual loans as reported on Schedule RC-R, Regulatory Capital; the use of performing loans as inputs for stress testing and recovery and resolution planning purposes; the impact on liquidity reporting; and the impact on the calculation of surcharge scores assessed to global systemically important banks (G-SIBs). Additionally, one bankers' association stated that the proposed instructional change would remove the current reporting flexibility for institutions to use a combination of actual-day count, the MBA method, and the current Call Report method based on the institutions' particular portfolios.

Based on the issues raised in the comments received on the proposed instructional revision to the definition of past due, the agencies are giving further consideration to this proposal, including its effect on and relationship to other regulatory reporting requirements. Accordingly, the agencies are not proceeding with this proposed instructional revision and the existing instructions for the definition of past due will remain in effect.

D. Proposed Call Report Revisions To Address Changes in Accounting for Equity Investments

In January 2016, the Financial Accounting Standards Board (FASB) issued Accounting Standards Update (ASU) No. 2016-01, “Recognition and Measurement of Financial Assets and Financial Liabilities.” As one of its main provisions, the ASU requires certain investments in equity securities (including other ownership interests, such as interests in partnerships, unincorporated joint ventures, and limited liability companies) to be measured at fair value with changes in fair value recognized in net income (fair value through net income).

Section 37(a) of the Federal Deposit Insurance Act (12 U.S.C. 1831n(a)) states that, in general, the accounting principles applicable to the Call Report “shall be uniform and consistent with generally accepted accounting principles.” The agencies are maintaining consistency with U.S. GAAP by implementing the provisions of ASU 2016-01 in the Call Report in accordance with the effective dates set forth in the ASU. For institutions that are public business entities, as defined in U.S. GAAP, ASU 2016-01 is effective for fiscal years beginning after December 15, 2017, including interim periods within those fiscal years. For all other institutions, the ASU is effective for fiscal years beginning after December 15, 2018, and interim periods within fiscal years beginning after December 15, 2019.

Based on their consideration of the changes in the accounting for equity investments under ASU 2016-01 and the effect of these changes on the manner in which data on equity securities and other equity investments are currently reported in the Call Report, the agencies proposed to revise the reporting of information on equity securities and other equity investments in Call Report Schedules RI, Income Statement; RI-D, Income from Foreign Offices (on the FFIEC 031); RC, Balance Sheet; RC-B, Securities; RC-F, Other Assets; RC-H, Selected Balance Sheet Items for Domestic Offices (on the FFIEC 031); RC-K, Quarterly Averages; RC-Q, Assets and Liabilities Measured at Fair Value on a Recurring Basis (on the FFIEC 041 and FFIEC 031); and RC-R, Regulatory Capital.¹³

¹³ See 82 FR 29158-29159 (June 27, 2017) for complete descriptions of the proposed revisions to these schedules.

In developing the proposed revisions to these Call Report schedules, the agencies sought to limit the number of data items being added to the Call Report to address the changes in accounting for equity securities and other equity investments.

Furthermore, because of the different effective dates for ASU 2016-01 for public business entities and all other entities, as well as the varying fiscal years across the population of institutions that file Call Reports, the period over which institutions will be implementing this ASU ranges from the first quarter of 2018 through the fourth quarter of 2020. As a result, the agencies proposed to introduce the revisions to the reporting of information on equity securities and other equity investments in response to the ASU in the Call Report effective March 31, 2018.

The agencies received comments from two banking organizations and two bankers' associations addressing the proposed Call Report revisions related to equity securities. Both bankers' associations expressed general support for the proposed changes to reporting of information on equity securities and other equity investments. However, for an institution that has adopted the new accounting standard, the associations sought clarification of the appropriate categorization on the proposed revised Call Report balance sheet (Schedule RC) of equity securities with readily determinable fair values that are bought and sold on a regular basis, but are not held with the intention of trading as this term is defined in the agencies' market risk rules.¹⁴ The agencies note that, for purposes of categorizing assets and liabilities on the Call Report balance sheet, they do not apply the trading definition in the market risk rules. Rather, the Call Report instructions state that:

¹⁴ The market risk rules define a “trading position” as a position held “for the purpose of short-term resale or with the intent of benefiting from actual or expected short-term price movements, or to lock in arbitrage profits.” See 12 CFR 3.202 (OCC), 12 CFR 217.202 (Board), and 12 CFR 324.202 (FDIC).

Trading activities typically include (a) regularly underwriting or dealing in securities; interest rate, foreign exchange rate, commodity, equity, and credit derivative contracts; other financial instruments; and other assets for resale, (b) acquiring or taking positions in such items principally for the purpose of selling in the near term or otherwise with the intent to resell in order to profit from short-term price movements, and (c) acquiring or taking positions in such items as an accommodation to customers or for other trading purposes.¹⁵

¹⁵ See the instructions for Schedule RC, item 5, “Trading assets,” the General Instructions for Schedule RC-D, Trading Assets and Liabilities, and the Glossary entry for “Trading Account” in the Call Report instructions.

Thus, when an institution's holdings of equity securities with readily determinable fair values fall within the scope of the preceding description of trading activities, the equity securities should be reported as trading assets in Schedule RC, item 5. Otherwise, the equity securities should be reported in new item 2.c, “Equity securities with readily determinable fair values not held for trading.” The agencies will modify the Call Report instructions to make this distinction more clear.

One banking organization noted that the proposal aligns the Call Report with the new accounting standard for equity investments, but it requested clarification of the balance sheet categorization of money market mutual funds following the adoption of the accounting standard. This organization observed that the Securities and Exchange Commission's rules permit such funds to be categorized as cash equivalents in financial statements filed with the Commission if appropriate criteria are met. The organization asked whether the agencies intended to permit a similar categorization for Call Report purposes. The Call Report does not recognize cash equivalents as part of “Cash and balances due from depository institutions,” as described in the instructions for Schedule RC, item 1. Thus, for Call Report purposes, an institution that has adopted ASU 2016-01 should report its investments in money market mutual funds with readily determinable fair values, which are considered equity securities for accounting purposes,¹⁶ in new Schedule RC, item 2.c, provided these investments are not held for trading (as discussed above). The agencies also will revise the Call Report instructions to clarify the reporting of money market mutual funds as equity securities, not as cash.

¹⁶ See FASB Accounting Standards Codification paragraph 321-10-55-7.

The other banking organization supported the proposed changes to the income statement for reporting unrealized holding gains (losses) on equity securities not held for trading, but recommended excluding unrealized gains on equity securities from tier 1 capital for regulatory capital purposes as is currently the case under today's accounting standards. The manner in which unrealized gains on equity securities are reported for regulatory capital purposes in Call Report Schedule RC-R depends entirely on how these unrealized gains are treated under the agencies' regulatory capital rules. After an institution adopts ASU 2016-01, unrealized gains on the institution's investments in equity securities with readily determinable fair values not held for trading will be recognized in net income and, hence, retained earnings. Because retained earnings is a common equity tier 1 (CET1) capital element under the agencies' regulatory capital rules, the operation of these rules will automatically result in the inclusion of all unrealized gains on such equity securities in CET1 capital after an institution's adoption of ASU 2016-01. Continuing to exclude unrealized gains on equity securities with readily determinable fair values not held for trading from CET1 capital after the adoption of ASU 2016-01 would require revisions to the agencies' regulatory capital rules and is outside the scope of the proposed equity securities reporting changes in the Call Report.

This banking organization also recommended retaining the existing regulatory framework governing investments in stock set forth in section 362.3 of the FDIC's regulations (12 CFR 362.3) and the related information on equity securities currently reported in Call Report Schedule RC-B, Securities. More specifically, under section 362.3(a) of the FDIC's regulations, an insured state bank may not “directly or indirectly acquire or retain as principal any equity investment of a type that is not permissible for a national bank.” However, this regulation provides for the grandfathering of certain investments in equity securities by insured state banks if certain conditions are met, including approval by the FDIC. The equity investments that are authorized to be grandfathered are common and preferred stock listed on a national securities exchange and shares of an investment company registered under the Investment Company Act of 1940.¹⁷ However, the FDIC's regulations provide that an insured state bank's aggregate investment in these authorized investments “shall in no event exceed, when made, 100 percent of the bank's tier one capital” and that “[t]he lower of the bank's cost as determined in accordance with call report instructions or the market value” of the authorized investments “shall be used to determine compliance.” ¹⁸ At present, the cost basis and fair value of an insured state bank's grandfathered equity investments are included in the amounts reported in available-for-sale columns C and D, respectively, of Call Report Schedule RC-B, item 7, “Investments in mutual funds and other equity securities with readily determinable fair values.” These two Schedule RC-B items currently serve as the starting point for assessing compliance with the limit on grandfathered equity investments at those insured state banks that have received FDIC approval to hold such investments. However, in their June 2017 proposal, the agencies proposed to remove item 7, columns C and D, from Schedule RC-B effective December 31, 2020. From March 31, 2018, through September 30, 2020, institutions that have adopted ASU 2016-01 would leave Schedule RC-B, item 7, columns C and D, blank.¹⁹ The fair value of the “Investments in mutual funds and other equity securities with readily determinable fair values” that these institutions had reported in Schedule RC-B, item 7, column D, before adopting ASU 2016-01 would instead be reported in new item 2.c, “Equity securities with readily determinable fair values not held for trading,” on Schedule RC, Balance Sheet. However, under the June 2017 proposal, the cost of the equity securities reported in Schedule RC-B, item 7, column C, until an institution's adoption of ASU 2016-01 would no longer be reported after the institution's adoption of this new accounting standard because the standard eliminates the existing concept of available-for-sale equity securities. Thus, the banking organization that commented on the issue of grandfathered equity investments recommended the retention of the Call Report data items used to measure compliance with the aggregate investment limit in these authorized investments.

¹⁷ 12 CFR 362.3(a)(2)(iii)(A).

¹⁸ 12 CFR 362.3(a)(2)(iii)(C).

¹⁹ During this period, only those institutions that have not yet adopted ASU 2016-01 would complete Schedule RC-B, item 7, columns C and D.

After considering this banking organization's recommendation as well as the provisions of section 362.3(a) of the FDIC's regulations, the agencies agree that, after its adoption of ASU 2016-01, an insured state bank that has been approved to hold authorized investments should continue to report the cost of their holdings of equity securities with readily determinable fair values not held for trading, which such an institution currently reports as available-for-sale securities in column C of Schedule RC-B, item 7. The continued collection of this cost information from insured state banks with grandfathered equity investments serves a long-term regulatory purpose by aiding the supervisory staffs of the agencies that supervise these insured state banks in performing their ongoing assessments of compliance with the aggregate limit on such investments. Accordingly, in place of Schedule RC-B, item 7, column C, which would no longer be applicable to institutions after their adoption of ASU 2016-01, and which would ultimately be removed effective December 31, 2020, the agencies would add a new item 4, “Cost of equity securities with readily determinable fair values not held for trading,” to Schedule RC-M effective March 31, 2018. The new Schedule RC-M item would be completed only by insured state banks that have adopted ASU 2016-01 and have been approved to hold grandfathered equity investments. All other institutions would leave new Schedule RC-M, item 4, blank. The equity securities for which the cost would be reported in Schedule RC-M, item 4, would be the same equity securities for which institutions that have adopted ASU 2016-01 would report the fair value in new Schedule RC, item 2.c.

In addition, as previously mentioned, the agencies also received three comments from banking organizations regarding the burden associated with Schedule RC-R, Regulatory Capital, which is one of the schedules for which several revisions related to equity securities were proposed. In this regard, a proposed change to this schedule was to add a new item 2.c, “Equity securities with readily determinable fair values not held for trading,” to Schedule RC-R, Part II, Risk-Weighted Assets, effective March 31, 2018. As proposed, this new item would be completed only by institutions that had adopted ASU 2016-01 and, for such institutions, Schedule RC-R, Part II, item 2.b, “Available-for-sale securities,” should include only debt securities. Effective December 31, 2020, which is the quarter-end report date as of which all institutions would be required to have adopted ASU 2016-01, the caption for item 2.b would be revised to “Available-for-sale debt securities.” These proposed revisions correspond to the changes the agencies proposed to make to the categories of securities reported on Schedule RC, Balance Sheet.

The commenters who addressed Schedule RC-R recommended simplifying and shortening the schedule to reduce burden. After considering the concerns expressed by commenters about the burden of Schedule RC-R in relation to the proposed revisions to this schedule for equity securities, the agencies have decided against adding a new item 2.c to Part II of Schedule RC-R. Instead, the agencies would retain the existing risk-weighting reporting process under which those equity securities with readily determinable fair values and debt securities currently categorized as available-for-sale securities are reported together in item 2.b of Schedule RC-R, Part II. To clarify the scope of item 2.b for institutions that have and have not adopted ASU 2016-01, the agencies would change the caption for item 2.b to “Available-for-sale debt securities and equity securities with readily determinable fair values not held for trading” effective March 31, 2018.

All the other revisions to the reporting of information on equity securities and other equity investments proposed by the agencies in response to the changes in the accounting requirements for these types of assets would be implemented as described in Section III.D.2 of the June 2017 proposal and would take effect beginning as of March 31, 2018.²⁰

²⁰ 82 FR 29147, 29156-29159.

IV. Timing

Subject to OMB approval, the effective date for the implementation of the revisions to the FFIEC 031, FFIEC 041, and FFIEC 051 to address the change in accounting for equity investments would be March 31, 2018. However, the effective date for the implementation of all other revisions described in this notice would be June 30, 2018.

The agencies originally proposed to implement the revisions proposed in the June 2017 notice, as well as those they expected to propose based on their evaluation of the responses to the third and final portion of user surveys, as of March 31, 2018. However, on November 8, 2017, the agencies proposed that the effective date for the latter set of changes would be the June 30, 2018, report date.²¹ Commenters on the June 2017 and prior Call Report notices have described the burden associated with implementing frequent revisions to the Call Report. Therefore, the agencies are delaying the burden-reducing revisions in this proposal until June 30, 2018, to align with the target implementation of the burden-reducing Call Report revisions published on November 8, 2017. This way, institutions will only need to adjust their reporting processes for one combined set of revisions effective for the June 30, 2018, Call Report rather than separate sets of revisions in March and June 2018. However, ASU 2016-01 is effective for public business entities for fiscal years beginning after December 15, 2017, including interim periods within those fiscal years. This necessitates that the proposed equity securities reporting revisions be implemented in the Call Report in the first quarter of 2018 so that institutions required to, or electing to, adopt the new accounting standard at that time are able to report in accordance with that standard in the March 31, 2018, Call Report.

²¹ See 82 FR 51908 (November 8, 2017).

When implementing the burden-reducing Call Report revisions as of the June 30, 2018, report date, institutions may provide reasonable estimates for any new or revised Call Report data item initially required to be reported as of that date for which the requested information is not readily available. In addition, as of the March 31, 2018, report date or a subsequent report date as of which an institution is required to, or early elects to, initially report in accordance with ASU 2016-01, the institution may provide reasonable estimates for any new or revised Call Report data item affected by the equity securities reporting changes for which the requested information is not readily available. The specific wording of the captions for the new or revised Call Report data items discussed in this proposal and the numbering of these data items is subject to change.

V. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies. All comments will become a matter of public record.

Appendix A—Summary of the FFIEC Member Entities' Uses of the Data Items in the Call Report Schedules in the Portion of the User Surveys Evaluated in the Development of This Proposal

Schedule RI-D (Income from Foreign Offices) [FFIEC 031 only]

Schedule RI-D collects data on income from foreign offices. Collectively, the data are used in country and currency risk analyses to monitor the level, trend, quality and sustainability of the income component of foreign offices. These data help support a variety of examination activities that include, but are not limited to, earnings and yield analysis, asset securitizations, core assessment, price risk, and trading. Quarterly data also improve the off-site monitoring of trading and asset management activities. Data on investment banking, advisory, brokerage, and underwriting fees and commissions are used to track the global asset management activities of institutions with foreign offices. The global presence of these activities adds to the complexity of the asset management business conducted by financial institutions and this information is continually monitored to detect potential shifts in business models. It also serves as one component of measurement of the degree of global interconnectedness and systemic risk.

Schedule RI-E (Explanations)

Schedule RI-E collects explanations for items that significantly contribute to the total amounts reported for other noninterest income and other noninterest expense. Since other noninterest income makes up almost half of total noninterest income and other noninterest expense makes up approximately 40 percent of noninterest expense on an aggregate basis for all filers of the Call Report, data on the composition of each of these income statement data items is essential to understanding what is driving the level of and changes over time in these data items at individual institutions. The stratification of the information in this schedule allows for identification of potential unusual sources of changes in earnings that affect trend analyses. This information is particularly important for identifying losses of an unusual or nonrecurring nature when an institution is in a stressed condition, which was evident during the recent financial crisis. This stratified noninterest income and expense information continues to be critical in understanding the causes of swings in an institution's profitability.

Schedule RI-E also collects descriptive information on discontinued operations, significant adjustments to the allowance for loan and lease losses (ALLL), accounting changes and error corrections, and certain capital transactions with stockholders. These data items provide the agencies and their examiners better insight on factors driving changes in net income and the ALLL (due to sources other than provisions, charge-offs, and recoveries), along with nonrecurring types of changes in institutions' equity capital.

The detailed breakdown of components of other noninterest income in excess of the Schedule RI-E reporting threshold is essential to the Consumer Financial Protection Bureau's (CFPB) understanding of the viability of institutions' offerings of consumer services regulated by the CFPB. This information provides unique insights into institutions' reliance on key revenue streams that can impact consumer access to and the availability of services. These streams include bank and credit card interchange, income and fees from automated teller machines, and institution-described components of other noninterest income. This information also helps the CFPB monitor trends in the consumer marketplace. Similarly, the detailed breakdown of other noninterest expense facilitates the CFPB's ability to conduct statutorily-required cost analyses for rulemakings and other policy endeavors.

Schedule RC-B (Securities)

Information collected on Schedule RC-B is essential for assessment of liquidity risk, market risk, interest rate risk, and credit risk. Specifically, information on held-to-maturity, available-for-sale, and pledged securities is critical for analysis of the institution's ability to manage short-term financial obligations without negatively impacting capital or income (liquidity risk), and risk of loss due to market movements (market risk). Maturity and repricing information on debt securities collected in the Memorandum items on Schedule RC-B, together with the maturity and repricing information collected in other schedules for other types of assets and liabilities, is critical for the assessment of the risk to an institution from changes in interest rates (interest rate risk), and also contributes to the evaluation of liquidity. Thus, the maturity and repricing information collected throughout the Call Report also aids in evaluating the strategies institutions take to mitigate liquidity and interest rate risks. Liquidity and interest rate risk indicators that are calculated by agency models from an institution's Call Report data and exceed specified parameters or change significantly between examinations are red flags that call for timely examiner off-site review.

In this regard, the reported amount of debt securities with a remaining maturity of one year or less is a key input into the calculation of an institution's short-term assets that, when analyzed in conjunction with non-core funding data, can indicate the extent to which the institution is relying on short-term funding to fund longer-term assets, which presents an exposure to liquidity risk. Further, liquidity risk inputs into agency models that vary by type of security provide examiners the ability to customize and apply liquidity stress tests. Extensive back testing has shown that the liquidity risk inputs for securities contain substantial forward-looking information by which to ascertain the likelihood that an institution would be able to avoid significant liquidity problems in a stressed environment.

As another example, agency models that consider both the amortized cost and fair value of held-to-maturity and available-for-sale securities reported in Schedule RC-B are used for off-site monitoring of interest rate risk to identify individual institutions that may be significantly exposed to rising interest rates. Individual types of securities from Schedule RC-B are grouped into major categories for purposes of performing duration-based analyses of potential investment portfolio depreciation for both severe and more moderate interest rate increases. The Schedule RC-B data for these groupings of securities, together with Call Report data for other types of balance sheet assets and liabilities, also serve as inputs to quarterly duration-based estimates of potential changes in fair values for the overall balance sheet in response to various forecasted interest rate changes. Outlier institutions identified by these models are the subject of prompt supervisory follow-up to address their interest rate risk exposure.

The institution's risk profile in these areas is considered during pre-examination planning to determine the appropriate scoping and staffing for examinations. For example, the quarterly reporting of the Call Report information on held-to-maturity and available-for-sale securities also aids in the identification of low-risk areas prior to on-site examinations, allowing the agencies to improve the allocation of their supervisory resources and increase the efficiency of supervisory assessments, which reduces the scope of examinations in these areas, thereby reducing regulatory burden.

Information on the amortized cost and fair value of the securities portfolio allows for measurement of depreciation/appreciation, which is important for assessing the potential impact that unrealized gains and losses may have on earnings and liquidity. Unrealized gains and losses on available-for-sale equity securities and, for certain institutions, unrealized gains and losses on available-for-sale debt securities are an integral input into regulatory capital calculations. Furthermore, because the amount of unrealized gains and losses on both held-to-maturity and available-for-sale debt securities is an indicator of risk in the debt securities portfolio, it also is a key factor in examiners' qualitative assessments of capital adequacy.

Data showing significant depreciation in specific types of securities not issued or guaranteed by the U.S. government or its agencies can signal an institution's failure to properly evaluate the existence of other-than-temporary impairments arising from credit losses and other factors. Similarly, data on year-to-date sales and transfers of held-to-maturity securities is a basis for off-site or on-site follow-up by examiners to determine whether the reasons for these transactions are acceptable under U.S. GAAP or have resulted in the tainting of this securities portfolio. In addition, the reporting of debt securities by security type is important to identify concentrations in higher risk types of investments, which may have greater liquidity and/or credit risk than other types of securities. Information on investments in securities issued by states and political subdivisions in the United States is used by many state regulatory agencies as a starting point for monitoring compliance with certain state municipal investment regulations. The amortized cost and fair value of held-to-maturity and available-for-sale debt securities, respectively, for certain types of securities as well as the fair value of all U.S. Treasury and U.S. Government agency securities are used in the risk-based premium deposit insurance pricing methodology for large institutions and highly complex institutions.

Schedule RC-D (Trading Assets and Liabilities) [FFIEC 031 and FFIEC 041 only]

Schedule RC-D collects information on trading activity from institutions with more than a limited amount of trading assets in recent quarters. Trading assets are segmented into detailed securities and loan categories. Trading liabilities separately cover liability for short positions and other trading liabilities. The schedule's Memorandum items request additional information, including the unpaid principal balance of loans and the fair value of structured financial products and asset-backed securities held for trading purposes.

The information contained in Schedule RC-D is used to assess the overall composition of the institution's trading portfolio and also provides detailed information to evaluate the liquidity, credit, and interest rate risk within the trading portfolio, which impacts the overall risk profile of the institution. Data on the types of trading assets held by an institution—such as U.S. Treasury securities versus structured financial products versus commercial and industrial loans, for example—serve as a barometer of the relative levels of these risks in the trading portfolio. Regarding liquidity risk, the higher the level of more liquid assets an institution has within its trading portfolio, the more financial flexibility it has if faced with uncertainties or unfavorable market conditions. If an institution has a low level of liquid assets within its trading portfolio, this impacts its ability to rapidly adjust its holdings in response to adverse market movements. Information on the volume and composition of trading assets and how it has changed over recent quarters also can provide insight into an institution's trading strategies and its views on market trends. The assessment of trading portfolio composition and risks enters into pre-examination planning to determine the appropriate scoping and staffing for examinations of institutions engaged in trading activities.

Furthermore, data on securities and loans held for trading are combined with data on securities and loans held for investment, as reported in Schedule RC-B and Schedule RC-C, Part I, to benchmark weekly loan and security data collected by the Board from a sample of both small and large institutions. These weekly data are used to estimate weekly measures of extension of credit for the banking sector as a whole to provide a more timely input for purposes of monitoring the macroeconomy.

Information on mortgage-backed securities and mortgage loans held for trading assisted the CFPB's efforts to develop required estimates for various Title XIV mortgage reform rulemakings under the Dodd-Frank Wall Street Reform and Consumer Protection Act (Pub. L. 111-203). Going forward, data items from this schedule and Schedules RC-B and RC-C, Part I, are critical for continuous monitoring of the mortgage market. The CFPB uses these items to understand the intricacies of the mortgage market that are essential to assessing institutional participation in regulated consumer financial services markets and to assess regulatory impact associated with recent and proposed policies, as required by that agency's statutory mandate.

Schedule RC-K (Quarterly Averages)

Average quarterly asset and liability information is essential to the ability of the FFIEC member entities to more appropriately evaluate the performance of individual institutions. Quarterly average data from Schedule RC-K also provide important information at the industry level for policy review at FFIEC member entities.

The average data reported in Schedule RC-K are used in conjunction with income and expense information from Schedule RI to calculate yields and costs for the corresponding categories of assets and liabilities. These ratios are presented in the Uniform Bank Performance Report (UBPR) where they are used as a tool by examiners, both on- and off-site, to monitor and evaluate trends related to an institution's earnings and capital. These ratios also help the agencies identify trends across the banking industry. Important ratios derived from quarterly average data include, but are not limited to, earnings ratios (e.g., return on average assets, overhead ratio, and net interest margin) and the leverage capital ratio.

The granularity of the data in Schedule RC-K assists in analyzing performance within a bank's asset and liability portfolios. Quarterly average balances allow for better analyses of trends in the composition of an institution's assets and liabilities than is possible from comparisons of quarter-end data, which may be affected by fluctuations related to seasonality or abnormal levels of activity at period-end. The detailed average data used to calculate the yield on specific types of interest-earning assets helps examination teams understand the impact of credit quality on the earnings performance of particular loan portfolios. Where an institution's yields on particular types of loans exceed those of its peers, this warrants examiner scrutiny to determine whether this outcome is a result of the institution's origination or purchase of lower credit quality loans. In addition, the data on the cost of funds by funding type is important in assessing the funding mix at the institution level for oversight purposes. Higher costs for particular types of deposits or other liabilities compared to these costs at an institution's peers also warrants examiner review to determine whether the institution is making greater use of more volatile non-core funding sources. The yield on interest-earning assets and cost of funds also gives insight into the effectiveness of an institution's plans and initiatives related to asset/liability mix, liquidity, and interest rate risk strategies and their resulting impact on earnings. These performance ratios are essential to the consideration of an institution's earnings during pre-examination planning to determine the appropriate scoping of this area, particularly because earnings is evaluated and rated as part of the CAMELS rating system.²²

²² CAMELS is an acronym that represents the ratings from six essential components of an institution's financial condition and operations: Capital adequacy, asset quality, management, earnings, liquidity, and sensitivity to market risk. These components represent the primary areas evaluated by examiners during examinations of institutions.

Schedule RC-L (Derivatives and Off-Balance-Sheet Items)

Schedule RC-L provides data on off-balance sheet assets and liabilities as well as derivatives contracts. The quarterly reporting of all off-balance sheet items in the Call Report is required by law (12 U.S.C. 1831n(a)(3)(C)). The most recent financial crisis emphasized the importance of identifying and monitoring significant exposures arising from any contingent or off-balance sheet liabilities and the effect of these exposures on an institution's overall risk profile. The granular data on components of off-balance sheet items, as well as derivatives data, assist the banking agencies in ensuring the safety and soundness of financial institutions through both off-site and on-site monitoring of a variety of potential risks. These risks include, but are not limited to, liquidity risk, credit risk, interest rate risk, and foreign exchange risk. The data on Schedule RC-L also is essential for the examination scoping process, which begins during pre-examination planning. The data offer insight into outliers and exceptions, which provide information to examiners on areas on which to focus during their on-site examinations.

The data on Schedule RC-L on the FFIEC 031 and FFIEC 041 are useful in determining an institution's potential exposure to losses from derivatives activities. It is also useful in identifying the extent to which an institution may be engaging in hedging strategies that will affect its future earnings prospects. An excessive and/or inappropriate credit derivative position could have a substantial and immediate detrimental impact to an institution's liquidity, interest rate risk, earnings, or capital adequacy. For institutions with material volumes of derivatives as reported on Schedule RC-L, examiners can assess whether the institution's management has the appropriate expertise and policies in place to manage and control the risks associated with its derivatives activities and whether the institution's capital levels are commensurate with its risk exposure. This is particularly true with respect to interest rate derivatives, which are the most widely held derivatives, and are commonly used in the management of interest rate risk. Schedule RC-L provides a granular perspective about the types of interest rate contracts an institution has entered into, which helps an examiner focus on assessing how effectively management uses the various types of interest rate contracts in its derivatives portfolio to hedge its exposure to interest rate risk. Also, examiners investigate fluctuations in the fair values of an institution's holdings of derivatives to determine if there are changes in the institution's risk appetite as set by the board of directors and implemented by management.

The unused commitments information on Schedule RC-L is essential to examiners, especially during periods of financial distress when borrowers rely increasingly on drawing down their lines of credit and unused commitments as a source of funding. The unused commitments data enable examiners to identify whether growth in unused commitments over time is at a manageable level and permit assessments of the potential impact, if such commitments are funded, on the credit quality of the related loan categories, as well as on the liquidity and on the capital position of an institution. Also, institutions may have a concentration in a particular loan category, which may not be readily apparent from balance sheet data until unused commitments to borrowers in this category are actually funded, which dictates that examiners consider the reported amounts on unused commitments by loan category to ensure they identify and assess the concentration risk. Financial and performance standby letters of credit also present liquidity and credit risk considerations for examiners, which also may be greater during periods of financial distress when the counterparties may be more likely to fail to perform as required under the terms of the underlying contract.

The derivatives information on Schedule RC-L is also one of the primary sources that feeds into a derivatives quarterly report that is used to report on bank trading and derivatives activities. This public report issued by the OCC helps the banking agencies' on-site examiners at the largest banks to continuously evaluate the credit, market, operational, reputation, and compliance risks of bank derivatives activities.

Schedule RC-M (Memoranda)

Schedule RC-M collects various types of information. Section 7(k) of the Federal Deposit Insurance Act (12 U.S.C. 1817(k)) authorizes the federal banking agencies to require the reporting and public disclosure of information concerning extensions of credit by an institution to its executive officers and principal shareholders and their related interests. The Board's Regulation O (12 CFR 215), which has been made applicable to all institutions, imposes an aggregate lending limit on extensions of credit to insiders (executive officers, directors, principal shareholders, and their related interests) and, in general, requires an institution to make available the names of its executive officers and principal shareholders to whom the institution had outstanding as of the end of the latest previous quarter aggregate extensions of credit that, when aggregated with all other outstanding extensions of credit to such person and their related interests, equaled or exceeded the lesser of 5 percent of capital and unimpaired surplus or $500,000. The data collected in Schedule RC-M on extensions of credit to the reporting institution's insiders generally align with these requirements and assist the agencies in monitoring compliance with the insider lending regulations between examinations and determining whether supervisory follow-up is warranted when material increases in insider lending are identified.

Because identifiable intangible assets are deducted from regulatory capital or are subject to regulatory capital limits and deducted amounts are not risk weighted, the reporting of these amounts aids in validating an institution's regulatory capital calculations in Schedule RC-R. In addition to their treatment under the regulatory capital rules, mortgage servicing assets in particular are complex in nature and present liquidity risk and interest rate risk and their value is affected by the credit risk of the underlying serviced assets. Mortgage servicing assets also contribute to the level of an institution's mortgage prepayment exposure. When the level of this exposure rises above a specified benchmark at an individual institution, this exposure may warrant additional attention by examiners between examinations and necessitate greater scrutiny of management's prepayment assumptions in its own interest rate risk model during examinations or visitations.

The components of other real estate owned are needed to monitor asset quality trends at individual institutions and industry-wide, including when coupled with the past due and nonaccrual data for loans secured by the same type of property from Schedule RC-N. The component information may provide insight into the market conditions affecting the segments of the real estate market in the institution's trade area, including possible deteriorating conditions.

Maturity and repricing information on other borrowed money, together with the maturity and repricing information collected in other schedules for other types of assets and liabilities, is needed to evaluate liquidity and interest rate risk to the institution, and to aid in evaluating the strategies institutions take to mitigate these risks. Liquidity and interest rate risk indicators that are calculated by agency models from an institution's Call Report data and exceed specified parameters or change significantly between examinations are red flags that call for timely examiner attention. Data on certain secured liabilities also are used in the assessment of institutions' liquidity positions. Increases in the relative volume of secured versus unsecured liabilities may signal that an institution is encountering difficulties in rolling over unsecured borrowings due to deterioration in its condition, which would call for supervisory follow-up when identified between examinations.

Information on mutual funds and annuities, bank websites with transactional capability, certain trustee and custodial activities, and captive insurance subsidiaries, is used to identify institutions engaged in these activities, some of which are not typical activities for community banks. If an institution begins to report that it engages in one or more of these activities or reports a significant increase in assets tied to an activity between examinations, this may indicate the need for examiner follow-up to assess the institution's expertise and management of these activities. An institution's involvement in these activities may also affect the staffing and scoping of examinations, particularly for activities for which compliance with applicable laws and regulations must be evaluated during examinations. The reporting of an institution's internet websites and trade names supports the FDIC's ability to serve as an information resource for insured institutions by responding to inquiries from the public with the most current information concerning the insured status of the institution behind an internet website or a physical branch office that uses a trade name.

For Qualified Thrift Lenders (QTL) subject to 12 U.S.C. 1467a(c), reporting of QTL test information assists the agencies in timely identifying thrift institutions that need to take action to remain in compliance, or that fail to comply and become subject to certain restrictions. International remittance transfers data by type are needed annually to monitor compliance with regulatory requirements (12 CFR 1005.30, et seq.). Different types of transfers pose different consumer protection concerns and information of transfer activity aids in the monitoring of the evolution of this market, and how institutions diversify remittance offerings beyond wire transfers.

Schedule RC-R (Regulatory Capital)

Schedule RC-R collects information about an institution's capital. Part I (Regulatory Capital Components and Ratios) collects information about the types and amounts of capital instruments and the leverage and risk-based capital ratios. Part II (Risk-Weighted Assets) collects additional information about types of assets on an institution's balance sheet and certain off-balance sheet items to use in computing the risk-based capital ratios.

Each federal banking agency is required to establish a leverage limit and risk-based capital requirement for insured depository institutions under 12 U.S.C. 1831o and to monitor compliance with those requirements. The agencies implemented the capital requirements in their regulatory capital rules (12 CFR part 3 for OCC; 12 CFR part 217 for the Board; 12 CFR part 324 for the FDIC) and the compliance requirements in their prompt corrective action rules (12 CFR part 6 for OCC; 12 CFR part 208, subpart D for the Board; 12 CFR 324, Subpart H for the FDIC). The capital rules recognize three types of capital instruments: CET-1, Additional Tier 1, and Tier 2 capital. The total of each type on Schedule RC-R, Part I, includes all potential adjustments to each component as allowed under the capital rules. The capital rules also provide for a calculation of risk-weighted assets, which consists of assigning a risk-weight to every asset on an institution's balance sheet that is not deducted from capital, as well as to certain off-balance sheet items. Schedule RC-R, Part II, includes all of the fields necessary to properly calculate an institution's risk-weighted asset amount. Finally, the results of the calculation of capital instrument amounts and risk-weighted assets are used to calculate risk-based and leverage capital ratios on Schedule RC-R, Part I. The agencies need to be able to monitor compliance with the capital rules and prompt corrective action provisions no less frequently than quarterly.

In addition to using the resulting capital ratios to determine an institution's status under 12 U.S.C. 1831o and the banking agencies' prompt corrective action regulations, the FFIEC member entities use the regulatory capital information for other purposes. The calculation of Tier 1 capital at quarter-end flows into the amount of average tangible equity for the calendar quarter that institutions report in Schedule RC-O, which is used in the measurement of institutions' assessment bases for deposit insurance purposes. The Tier 1 leverage ratio is one of the inputs into the calculation of deposit insurance assessment rates for small institutions and Tier 1 capital is a commonly used input when calculating these rates for large and highly complex institutions. Capital adequacy is rated in an institution's on-site examination as the C of the CAMELS component ratings, and the information provided on Schedule RC-R helps examiners evaluate and rate that component. It is also used in the off-site monitoring process, and is important in reviewing the risk profile and viability of a financial institution. For example, the ratio of risk-weighted assets to unweighted assets has been found to provide an informative forward-looking signal regarding an institution's risk posture. The information provided on Schedule RC-R also is used in deciding whether to approve an 18-month examination cycle for a specific institution and in reviewing merger applications.

Information on specific sub-components of regulatory capital is useful as well. For example, the amounts of unrealized gains and losses on securities that flow into regulatory capital provide an indication of an institution's interest rate and market risk. Information on the risk weighting of assets and off-balance sheet items provides insight into management's risk tolerance and the institution's risk to the deposit insurance fund. The risk-weighted asset composition information and risk-based capital ratios that flow into the UBPR are helpful to examiners when reviewing Reports of Examination and to establish a peer group average for comparison when evaluating changes in these items. The risk-weighted asset composition information also assists examiners in evaluating the reasons for changes in total risk-weighted assets over time at individual institutions. The derivatives exposure items reported in the Memoranda section of Schedule RC-R, Part II, provide a key insight into the notional principal amounts of both cleared and over-the-counter derivatives in the banking system, in addition to being inputs into the calculation for risk-weighted assets.

Appendix B—FFIEC 051: To be completed by banks with domestic offices only and total assets less than $1 billion

Data Items Removed, Other Impacts to Data Items, Data Items With a Reduction in Frequency of Collection, or Data Items with an Increase in Reporting Threshold

Data Items Removed
Schedule | Item | Item name | MDRM No.
RI | 5.d.(1) | Fees and commissions from securities brokerage | RIADC886.
RI | 5.d.(2) | Investment banking, advisory, and underwriting fees and commissions | RIADC888.
|  | Note: Items 5.d.(1) and 5.d.(2) of Schedule RI will be combined into one data item.
RI | 5.d.(3) | Fees and commissions from annuity sales | RIADC887.
RI | 5.d.(4) | Underwriting income from insurance and reinsurance activities | RIADC386.
RI | 5.d.(5) | Income from other insurance activities | RIADC387.
|  | Note: Items 5.d.(3), 5.d.(4), and 5.d.(5) of Schedule RI will be combined into one data item.
RI | 5.g | Net securitization income | RIADB493.
RI | M1 | Interest expense incurred to carry tax-exempt securities, loans, and leases acquired after August 7, 1986, that is not deductible for federal income tax purposes | RIAD4513.
RI-B, Part II | M4 | Amount of allowance for post-acquisition credit losses on purchased credit-impaired loans accounted for in accordance with FASB ASC 310-30 (former AICPA Statement of Position 03-3) | RIADC781.
RI-E | 1.f | Net change in the fair values of financial instruments accounted for under a fair value option | RIADF229.
RI-E | 1.h | Gains on bargain purchases | RIADJ447.
RC | 10.a | Goodwill | RCON3163.
|  | Note: Schedule RC, item 10.a will be moved to Schedule RC-M, new item 2.b.
RC | 10.b | Other intangible assets (from Schedule RC-M)
|  | Note: Items 10.a and 10.b of Schedule RC will be combined into one data item | RCON0426.
RC-B | 2.a | U.S. Government agency obligations (exclude mortgage-backed securities): Issued by U.S. Government agencies (Columns A through D) | RCON1289, RCON1290, RCON1291, RCON1293.
RC-B | 2.b | U.S. Government agency obligations (exclude mortgage-backed securities): Issued by U.S. Government-sponsored agencies (Columns A through D) | RCON1294, RCON1295, RCON1297, RCON1298.
|  | Note: Items 2.a and 2.b of Schedule RC-B will be combined into one data item (Columns A through D).
RC-B | 5.b.(1) | Structured financial products: Cash (Columns A through D). | RCONG336, RCONG337, RCONG338, RCONG339.
RC-B | 5.b.(2) | Structured financial products: Synthetic (Columns A through D) | RCONG340, RCONG341, RCONG342, RCONG343.
RC-B | 5.b.(3) | Structured financial products: Hybrid (Columns A through D). | RCONG344, RCONG345, RCONG346, RCONG347.
|  | Note: Items 5.b.(1), 5.b.(2), and 5.b.(3) of Schedule RC-B will be combined into one line item (Columns A through D).
RC-B | M6.a | Structured financial products by underlying collateral or reference assets: Trust preferred securities issued by financial institutions (Columns A through D) | RCONG348, RCONG349, RCONG350, RCONG351.
RC-B | M6.b | Structured financial products by underlying collateral or reference assets: Trust preferred securities issued by real estate investment trusts (Columns A through D) | RCONG352, RCONG353, RCONG354, RCONG355.
RC-B | M6.c | Structured financial products by underlying collateral or reference assets: Corporate and similar loans (Columns A through D) | RCONG356, RCONG357, RCONG358, RCONG359.
RC-B | M6.d | Structured financial products by underlying collateral or reference assets: 1-4 family residential MBS issued or guaranteed by U.S. Government-sponsored enterprises (GSEs) (Columns A through D) | RCONG360, RCONG361, RCONG362, RCONG363.
RC-B | M6.e | Structured financial products by underlying collateral or reference assets: 1-4 family residential MBS not issued or guaranteed by GSEs (Columns A through D) | RCONG364, RCONG365, RCONG366, RCONG367.
RC-B | M6.f | Structured financial products by underlying collateral or reference assets: Diversified (mixed) pools of structured financial products (Columns A through D) | RCONG368, RCONG369, RCONG370, RCONG371.
RC-B | M6.g | Structured financial products by underlying collateral or reference assets: Other collateral or reference assets (Columns A through D) | RCONG372, RCONG373, RCONG374, RCONG375.
RC-K | 7 | Trading assets | RCON3401.
RC-L | 1.b.(1) | Unused consumer credit card lines | RCONJ455.
RC-L | 1.b.(2) | Other unused credit card lines | RCONJ456.
RC-L | 1.d | Unused commitments: Securities underwriting | RCON3817.
RC-M | 2.b | Purchased credit card relationships and nonmortgage servicing assets | RCONB026.
|  | Note: Amounts reported in item 2.b will be included in item 2.c, All other identifiable intangible assets.
RC-M | 3.f | Foreclosed properties from “GNMA loans” | RCONC979.
|  | Note: Amounts reported in item 3.f will be included in item 3.c, Other real estate owned: 1-4 family residential properties.

Other Impacts to Data Items
Schedule | Item | Item name | MDRM No.
RI | 5.d.(1) (New) | Fees and commissions from securities brokerage, investment banking, advisory, and underwriting activities | To be determined (TBD).
|  | Note: Items 5.d.(1) and 5.d.(2) of Schedule RI removed above will be combined into this data item.
RI | 5.d.(2) (New) | Income from insurance activities (includes underwriting income from insurance and reinsurance activities) | TBD.
|  | Note: Items 5.d.(3), 5.d.(4), and 5.d.(5) of Schedule RI removed above will be combined into this data item.
RC | 10 (New) | Intangible assets (from Schedule RC-M) | RCON2143.
|  | Note: Items 10.a and 10.b of Schedule RC removed above will be combined into this data item.
RC-B | 2 (New) | U.S. Government agency and sponsored agency obligations (exclude mortgage-backed securities (Columns A through D) Note: Items 2.a and 2.b of Schedule RC-B removed above will be combined into this data item (Columns A through D) | TBD (4 MDRMs).
RC-B | 5.b (New) | Structured financial products (Columns A through D) | TBD (4 MDRMs).
|  | Note: Items 5.b.(1), 5.b.(2), and 5.b.(3) of Schedule RC-B removed above will be combined into this line item (Columns A through D).
RC-M | 2.b (Re-mapping) | Goodwill | RCON3163.
|  | Note: Schedule RC, item 10.a will be moved to Schedule RC-M, new item 2.b., and the phrase “other than goodwill” will be removed from the caption for Schedule RC-M, item 2.

Data Items With a Reduction in Frequency of Collection

Semiannual Reporting
[June 30 and December 31]
Schedule | Item | Item name | MDRM No.
RC-B | M3 | Amortized cost of held-to-maturity securities sold or transferred to available-for-sale or trading securities during the calendar year-to-date | RCON1778.
RC-C, Part I | M7.a | Purchased credit-impaired loans held for investment accounted for in accordance with FASB ASC 310-30: Outstanding balance | RCONC779.
RC-C, Part I | M7.b | Purchased credit-impaired loans held for investment accounted for in accordance with FASB ASC 310-30: Amount included in Schedule RC-C, Part I, items 1 through 9 | RCONC780.
RC-C, Part I | M8.a | Total amount of closed-end loans with negative amortization features secured by 1-4 family residential properties | RCONF230.
RC-C, Part I | M12 | Loans (not subject to the requirements of FASB ASC 310-30 (former AICPA Statement of Position 03-3)) and leases held for investment that were acquired in business combinations with acquisition dates in the current calendar year (Columns A through C) | RCONGW45, RCONGW46, RCONGW47.
RC-L | 11.a | Year-to-date merchant credit card sales volume: Sales for which the reporting bank is the acquiring bank | RCONC223.
RC-L | 11.b | Year-to-date merchant credit card sales volume: Sales for which the reporting bank is the agent bank with risk | RCONC224.
RC-N | M7 | Additions to nonaccrual assets during the quarter | RCONC410.
|  | Note: This caption would be revised to “Additions to nonaccrual assets during the last 6 months.”
RC-N | M8 | Nonaccrual assets sold during the quarter | RCONC411.
|  | Note: This caption would be revised to “Nonaccrual assets sold during the last 6 months.”
RC-N | M9.a | Purchased credit-impaired loans accounted for in accordance with FASB ASC 310-30 (former AICPA Statement of Position 03-3): Outstanding balance (Columns A through C) | RCONL183, RCONL184, RCONL185.
RC-N | M9.b | Purchased credit-impaired loans accounted for in accordance with FASB ASC 310-30 (former AICPA Statement of Position 03-3): Amount included in Schedule RC-N, items 1 through 7, above (Columns A through C) | RCONL186, RCONL187, RCONL188.

Annual Reporting
[December 31]
Schedule | Item | Item name | MDRM No.
RI-E | 1.a through 1.l | Other noninterest income (from Schedule RI, item 5.l) | RIADC013, RIADC014, RIADC016, RIAD4042, RIADC015, RIADF555, RIADT047, RIAD4461, RIAD4462, RIAD4463.
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468.

Data Items With an Increase in Reporting Threshold
[To be completed by banks with components of other noninterest income in amounts greater than $100,000 that exceed 7 percent of Schedule RI, item 5.l]
Schedule | Item | Item name | MDRM No.
RI-E | 1.a through 1.l | Other noninterest income (from Schedule RI, item 5.l) | RIADC013, RIADC014, RIADC016, RIAD4042, RIADC015, RIADF555, RIADT047, RIAD4461, RIAD4462, RIAD4463.

[To be completed by banks with components of other noninterest expense in amounts greater than $100,000 that exceed 7 percent of Schedule RI, item 7.d]
Schedule | Item | Item name | MDRM No.
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468.

Appendix C—FFIEC 041: To Be Completed by Banks With Domestic Offices Only and Consolidated Total Assets Less Than $100 Billion

Data Items Removed, Other Impacts to Data Items, Data Items With a Reduction in Frequency of Collection, or Data Items With an Increase in Reporting Threshold

Data Items Removed
Schedule | Item | Item name | MDRM No.
RI | M8.a | Trading revenue from interest rate exposures | RIAD8757.
RI | M8.b | Trading revenue from foreign exchange exposures | RIAD8758.
RI | M8.c | Trading revenue from equity security and index exposures | RIAD8759.
RI | M8.d | Trading revenue from commodity and other exposures | RIAD8760.
RI | M8.e | Trading revenue from credit exposures | RIADF186.
RI | M8.f.(1) | Impact on trading revenue of changes in the creditworthiness of the bank's derivatives counterparties on the bank's derivative assets: Gross credit valuation adjustment (CVA) | RIADFT36.
RI | M8.f.(2) | Impact on trading revenue of changes in the creditworthiness of the bank's derivatives counterparties on the bank's derivative assets: CVA hedge | RIADFT37.
RI | M8.g.(1) | Impact on trading revenue of changes in the creditworthiness of the bank on the bank's derivative liabilities: Gross debit valuation adjustment (DVA) | RIADFT38.
RI | M8.g.(2) | Impact on trading revenue of changes in the creditworthiness of the bank on the bank's derivative liabilities: DVA hedge | RIADFT39.
RI | M8.h | Gross trading revenue before including positive or negative net CVA and net DVA | RIADFT40.
RI-E | 1.f | Net change in the fair values of financial instruments accounted for under a fair value option | RIADF229.
RI-E | 1.h | Gains on bargain purchases | RIADJ447.
RC | 10.a | Goodwill | RCON3163.
|  | Note: Schedule RC, item 10.a will be moved to Schedule RC-M, new item 2.b
RC | 10.b | Other intangible assets (from Schedule RC-M) | RCON0426.
|  | Note: Items 10.a and 10.b of Schedule RC will be combined into one data item
RC-B | 2.a | U.S. Government agency obligations (exclude mortgage-backed securities): Issued by U.S. Government agencies (Columns A through D) | RCON1289, RCON1290, RCON1291, RCON1293.
RC-B | 2.b | U.S. Government agency obligations (exclude mortgage-backed securities): Issued by U.S. Government-sponsored agencies (Columns A through D) | RCON1294, RCON1295, RCON1297, RCON1298.
|  | Note: Items 2.a and 2.b of Schedule RC-B will be combined into one data item (Columns A through D)
RC-B | 5.b.(1) | Structured financial products: Cash (Columns A through D). | RCONG336, RCONG337, RCONG338, RCONG339.
RC-B | 5.b.(2) | Structured financial products: Synthetic (Columns A through D) | RCONG340, RCONG341, RCONG342, RCONG343.
RC-B | 5.b.(3) | Structured financial products: Hybrid (Columns A through D). | RCONG344, RCONG345, RCONG346, RCONG347.
|  | Note: Items 5.b.(1), 5.b.(2), and 5.b.(3) of Schedule RC-B will be combined into one data item
RC-D | 5.a.(1) | Structured financial products: Cash | RCONG383.
RC-D | 5.a.(2) | Structured financial products: Synthetic | RCONG384.
RC-D | 5.a.(3) | Structured financial products: Hybrid | RCONG385.
|  | Note: Items 5.a.(1), 5.a.(2), and 5.a.(3) of Schedule RC-D will be combined into one data item
RC-D | 6.a.(1) | Construction, land development, and other land loans | RCONF604.
RC-D | 6.a.(2) | Loans secured by farmland | RCONF605.
RC-D | 6.a.(3)(a) | Revolving, open-end loans secured by 1-4 family residential properties and extended under lines of credit | RCONF606.
RC-D | 6.a.(3)(b)(1) | Closed-end loans secured by 1-4 family residential properties: Secured by first liens | RCONF607.
RC-D | 6.a.(3)(b)(2) | Closed-end loans secured by 1-4 family residential properties: Secured by junior liens | RCONF611.
RC-D | 6.a.(4) | Loans secured by multifamily (5 or more) residential properties | RCONF612.
RC-D | 6.a.(5) | Loans secured by nonfarm nonresidential properties | RCONF613.
|  | Note: Items 6.a.(1), 6.a.(2), 6.a.(3)(a), 6.a.(3)(b)(1), 6.a.(3)(b)(2), 6.a.(4), and 6.a.(5) of Schedule RC-D will be replaced by two data items: (1) Loans secured by 1-4 family residential properties, and (2) All other loans secured by real estate
RC-D | 6.c.(1) | Loans to individuals for household, family, and other personal expenditures: Credit cards | RCONF615.
RC-D | 6.c.(2) | Loans to individuals for household, family, and other personal expenditures: Other revolving credit plans | RCONF616.
RC-D | 6.c.(3) | Loans to individuals for household, family, and other personal expenditures: Automobile loans | RCONK199.
RC-D | 6.c.(4) | Loans to individuals for household, family, and other personal expenditures: Other consumer loans | RCONK210.
|  | Note: Items 6.c.(1), 6.c.(2), 6.c.(3), and 6.c.(4) of Schedule RC-D will be combined into one data item
RC-D | M1.a.(1) | Unpaid principal balance of loans measured at fair value: Construction, land development, and other land loans | RCONF625.
RC-D | M1.a.(2) | Unpaid principal balance of loans measured at fair value: Loans secured by farmland | RCONF626.
RC-D | M1.a.(3)(a) | Unpaid principal balance of loans measured at fair value: Revolving, open-end loans secured by 1-4 family residential properties and extended under lines of credit | RCONF627.
RC-D | M1.a.(3)(b)(1) | Unpaid principal balance of loans measured at fair value: Closed-end loans secured by 1-4 family residential properties: Secured by first liens | RCONF628.
RC-D | M1.a.(3)(b)(2) | Unpaid principal balance of loans measured at fair value: Closed-end loans secured by 1-4 family residential properties: Secured by junior liens | RCONF629.
RC-D | M1.a.(4) | Unpaid principal balance of loans measured at fair value: Loans secured by multifamily (5 or more) residential properties | RCONF630.
RC-D | M1.a.(5) | Unpaid principal balance of loans measured at fair value: Loans secured by nonfarm nonresidential properties | RCONF631.
|  | Note: Items M1.a.(1), M1.a.(2), M1.a.(3)(a), M1.a.(3)(b)(1), M1.a.(3)(b)(2), M1.a.(4), and M1.a.(5) of Schedule RC-D will be replaced by two data items: (1) Unpaid principal balance of loans measured at fair value: Loans secured by 1-4 family residential properties, and (2) Unpaid principal balance of loans measured at fair value: All other loans secured by real estate
RC-D | M1.c.(1) | Unpaid principal balance of loans measured at fair value: Loans to individuals for household, family, and other personal expenditures: Credit cards | RCONF633.
RC-D | M1.c.(2) | Unpaid principal balance of loans measured at fair value: Loans to individuals for household, family, and other personal expenditures: Other revolving credit plans | RCONF634.
RC-D | M1.c.(3) | Unpaid principal balance of loans measured at fair value: Loans to individuals for household, family, and other personal expenditures: Automobile loans | RCONK200.
RC-D | M1.c.(4) | Unpaid principal balance of loans measured at fair value: Loans to individuals for household, family, and other personal expenditures: Other consumer loans | RCONK211.
|  | Note: Items M1.c.(1), M1.c.(2), M1.c.(3), and M1.c.(4) of Schedule RC-D will be combined into one data item.
RC-D | M2.a | Loans measured at fair value that are past due 90 days or more: Fair value | RCONF639.
RC-D | M2.b | Loans measured at fair value that are past due 90 days or more: Unpaid principal balance | RCONF640.
RC-D | M3.a | Structured financial products by underlying collateral or reference assets: Trust preferred securities issued by financial institutions | RCONG299.
RC-D | M3.b | Structured financial products by underlying collateral or reference assets: Trust preferred securities issued by real estate investment trusts | RCONG332.
RC-D | M3.c | Structured financial products by underlying collateral or reference assets: Corporate and similar loans | RCONG333.
RC-D | M3.d | Structured financial products by underlying collateral or reference assets: 1-4 family residential MBS issued or guaranteed by U.S. Government-sponsored enterprises (GSEs) | RCONG334.
RC-D | M3.e | Structured financial products by underlying collateral or reference assets: 1-4 family residential MBS not issued or guaranteed by GSEs | RCONG335.
RC-D | M3.f | Structured financial products by underlying collateral or reference assets: Diversified (mixed) pools of structured financial products | RCONG651.
RC-D | M3.g | Structured financial products by underlying collateral or reference assets: Other collateral or reference assets | RCONG652.
RC-D | M4.a | Pledged trading assets: Pledged securities | RCONG387.
RC-D | M4.b | Pledged trading assets: Pledged loans | RCONG388.
RC-D | M5.a | Asset-backed securities: Credit card receivables | RCONF643.
RC-D | M5.b | Asset-backed securities: Home equity lines | RCONF644.
RC-D | M5.c | Asset-backed securities: Automobile loans | RCONF645.
RC-D | M5.d | Asset-backed securities: Other consumer loans | RCONF646.
RC-D | M5.e | Asset-backed securities: Commercial and industrial loans | RCONF647.
RC-D | M5.f | Asset-backed securities: Other | RCONF648.
RC-D | M6 | Retained beneficial interests in securitizations | RCONF651.
RC-D | M7.a | Equity securities: Readily determinable fair values | RCONF652.
RC-D | M7.b | Equity securities: Other | RCONF653.
RC-D | M8 | Loans pending securitization | RCONF654.
RC-D | M9 | Other trading assets | RCONF655, RCONF656, RCONF657.
RC-D | M10 | Other trading liabilities | RCONF658, RCONF659, RCONF660.
RC-L | 1.a.(1) | Unused commitments for Home Equity Conversion Mortgage (HECM) reverse mortgages outstanding that are held for investment | RCONJ477.
RC-L | 1.a.(2) | Unused commitments for proprietary reverse mortgages outstanding that are held for investment | RCONJ478.
|  | Note: Items 1.a.(1) and 1.a.(2) of Schedule RC-L will be combined into one data item
RC-L | 8 | Spot foreign exchange contracts | RCON8765.
RC-L | 16.a | Over-the-counter derivatives: Net current credit exposure (Columns B, C, and D) | RCONG419, RCONG420, RCONG421.
RC-L | 16.b.(1) | Over-the-counter derivatives: Fair value of collateral: Cash—U.S. dollar (Columns B, C, and D) | RCONG424, RCONG425, RCONG426.
RC-L | 16.b.(2) | Over-the-counter derivatives: Fair value of collateral: Cash—Other currencies (Columns B, C, and D) | RCONG429, RCONG430, RCONG431.
RC-L | 16.b.(3) | Over-the-counter derivatives: Fair value of collateral: U.S. Treasury securities (Columns B, C, and D) | RCONG434, RCONG435, RCONG436.
RC-L | 16.b.(4) | Over-the-counter derivatives: Fair value of collateral: U.S. Government agency and U.S. Government-sponsored agency debt securities (Columns A, B, C, D, and E) | RCONG438, RCONG439, RCONG440, RCONG441, RCONG442
RC-L | 16.b.(5) | Over-the-counter derivatives: Fair value of collateral: Corporate bonds (Columns A, B, C, D, and E) | RCONG443, RCONG444, RCONG445, RCONG446, RCONG447.
RC-L | 16.b.(6) | Over-the-counter derivatives: Fair value of collateral: Equity securities (Columns A, B, C, D, and E) | RCONG448, RCONG449, RCONG450, RCONG451, RCONG452.
RC-L | 16.b.(7) | Over-the-counter derivatives: Fair value of collateral: All other collateral (Columns B, C, and D) Note: Amounts reported in items 16.b.(4), 16.b.(5), and 16.b.(6), Columns A and E, will be included in item 16.b.(7), Columns A and E | RCONG454, RCONG455 RCONG456.
RC-L | 16.b.(8) | Over-the-counter derivatives: Fair value of collateral: Total fair value of collateral (Columns B, C, and D) | RCONG459, RCONG460 RCONG461.
|  | Note: Amounts reported in items 16.a, 16.b.(1), 16.b.(2), 16.b.(3), 16.b.(4), 16.b.(5), 16.b.(6), and 16.b.(7), Columns B, C, and D, will be included in items 16.a, 16.b.(1), 16.b.(2), 16.b.(3), and 16.b.(7), Column E
RC-M | 2.b | Purchased credit card relationships and nonmortgage servicing assets | RCONB026.
|  | Note: Amounts reported in item 2.b will be included in item 2.c, All other identifiable intangible assets
RC-M | 3.f | Foreclosed properties from ”GNMA loans” | RCONC979.
|  | Note: Amounts reported in item 3.f will be included in item 3.c, Other real estate owned: 1-4 family residential properties

Other Impacts to Data Items
Schedule | Item | Item name | MDRM No.
RC | 10 (New) | Intangible assets | RCON2143.
|  | Note: Items 10.a and 10.b of Schedule RC will be combined into this data item
RC-B | 2 (New) | U.S. Government agency and sponsored agency obligations (exclude mortgage-backed securities (Columns A through D) | TBD (4 MDRMs).
|  | Note: Items 2.a and 2.b of Schedule RC-B removed above will be combined into this data item (Columns A through D)
RC-B | 5.b (New) | Structured financial products (Columns A through D) | TBD (4 MDRMs).
|  | Note: Items 5.b.(1), 5.b.(2), and 5.b.(3) of Schedule RC-B removed above will be combined into this data item (Columns A through D)
RC-D | 5.a (New) | Structured financial products | TBD.
|  | Note: Items 5.a.(1), 5.a.(2), and 5.a.(3) of Schedule RC-D removed above will be combined into this data item
RC-D | 6.a.(1) (New) | Loans secured by 1-4 family residential properties | TBD.
|  | Note: Items 6.a.(3)(a), 6.a.(3)(b)(1), and 6.a.(3)(b)(2) of Schedule RC-D removed above will be combined into this data item
RC-D | 6.a.(2) (New) | All other loans secured by real estate | TBD.
|  | Note: Items 6.a.(1), 6.a.(2), 6.a.(4), and 6.a.(5) of Schedule RC-D removed above will be combined into this data item
RC-D | 6.c (New) | Loans to individuals for household, family and other personal expenditures (i.e., consumer loans) (includes purchased paper) | TBD.
|  | Note: Items 6.c.(1), 6.c.(2), 6.c.(3), and 6.c.(4) of Schedule RC-D removed above will be combined into this data item
RC-D | M1.a.(1) (New) | Unpaid principal balance of loans measured at fair value: Loans secured by 1-4 family residential properties | TBD.
|  | Note: Items M1.a.(3)(a), M1.a.(3)(b)(1), and M1.a.(3)(b)(2) of Schedule RC-D removed above will be combined into this data item
RC-D | M1.a.(2) (New) | Unpaid principal balance of loans measured at fair value: All other loans secured by real estate | TBD.
|  | Note: Items M1.a.(1), M1.a.(2), M1.a.(4), and M1.a.(5) of Schedule RC-D removed above will be combined into this data item
RC-D | M1.c (New) | Unpaid principal balance of loans measured at fair value: Loans to individuals for household, family, and other personal expenditures | TBD.
|  | Note: Items M1.c.(1), M1.c.(2), M1.c.(3), and M1.c.(4) of Schedule RC-D removed above will be combined into this data item
RC-L | 1.a.(1) (New) | Unused commitments for reverse mortgages outstanding that are held for investment | TBD.
|  | Note: Items 1.a.(1) and 1.a.(2) of Schedule RC-L removed above will be combined into this data item
RC-M | 2.b (Re-mapping) | Goodwill | RCON3163.
|  | Note: Schedule RC, item 10.a will be moved to Schedule RC-M, new item 2.b., and the phrase “other than goodwill” will be removed from the caption for Schedule RC-M, item 2

Data Items With a Reduction in Frequency of Collection

Semiannual Reporting
[June 30 and December 31]
Schedule | Item | Item name | MDRM No.
RI | M12 | Noncash income from negative amortization on closed-end loans secured by 1-4 family residential properties | RIADF228.
RC-B | M3 | Amortized cost of held-to-maturity securities sold or transferred to available-for-sale or trading securities during the calendar year-to-date | RCON1778.
RC-C, Part I | M7.a | Purchased credit-impaired loans held for investment accounted for in accordance with FASB ASC 310-30: Outstanding balance | RCONC779.
RC-C, Part I | M7.b | Purchased credit-impaired loans held for investment accounted for in accordance with FASB ASC 310-30: Amount included in Schedule RC-C, Part I, items 1 through 9 | RCONC780.
RC-C, Part I | M8.a | Total amount of closed-end loans with negative amortization features secured by 1-4 family residential properties | RCONF230.
RC-C, Part I | M8.b | Total maximum remaining amount of negative amortization contractually permitted on closed-end loans secured by 1-4 family residential properties | RCONF231.
RC-C, Part I | M8.c | Total amount of negative amortization on closed-end loans secured by 1-4 family residential properties included in the amount reported in Memorandum item 8.a above | RCONF232.
RC-C, Part I | M12.a | Loans (not subject to the requirements of FASB ASC 310-30 (former AICPA Statement of Position 03-3)) and leases held for investment that were acquired in business combinations with acquisition dates in the current calendar year: Loans secured by real estate (Columns A through C) | RCONG091, RCONG092, RCONG093.
RC-C, Part I | M12.b | Loans (not subject to the requirements of FASB ASC 310-30 (former AICPA Statement of Position 03-3)) and leases held for investment that were acquired in business combinations with acquisition dates in the current calendar year: Commercial and industrial loans (Columns A through C) | RCONG094, RCONG095, RCONG096.
RC-C, Part I | M12.c | Loans (not subject to the requirements of FASB ASC 310-30 (former AICPA Statement of Position 03-3)) and leases held for investment that were acquired in business combinations with acquisition dates in the current calendar year: Loans to individuals for household, family, and other personal expenditures (Columns A through C) | RCONG097, RCONG098, RCONG099.
RC-C, Part I | M12.d | Loans (not subject to the requirements of FASB ASC 310-30 (former AICPA Statement of Position 03-3)) and leases held for investment that were acquired in business combinations with acquisition dates in the current calendar year: All other loans and all leases (Columns A through C) | RCONG100, RCONG101, RCONG102.
RC-L | 1.b.(1) | Unused consumer credit card lines | RCONJ455.
RC-L | 1.b.(2) | Other unused credit card lines | RCONJ456.
RC-L | 11.a | Year-to-date merchant credit card sales volume: Sales for which the reporting bank is the acquiring bank | RCONC223.
RC-L | 11.b | Year-to-date merchant credit card sales volume: Sales for which the reporting bank is the agent bank with risk | RCONC224.
RC-N | M7 | Additions to nonaccrual assets during the quarter | RCONC410.
|  | Note: This caption would be revised to “Additions to nonaccrual assets during the last 6 months”
RC-N | M8 | Nonaccrual assets sold during the quarter | RCONC411.
|  | Note: This caption would be revised to ”Nonaccrual assets sold during the last 6 months”
RC-N | M9.a | Purchased credit-impaired loans accounted for in accordance with FASB ASC 310-30 (former AICPA Statement of Position 03-3): Outstanding balance (Columns A through C) | RCONL183, RCONL184, RCONL185.
RC-N | M9.b | Purchased credit-impaired loans accounted for in accordance with FASB ASC 310-30 (former AICPA Statement of Position 03-3): Amount included in Schedule RC-N, items 1 through 7, above (Columns A through C) | RCONL186, RCONL187, RCONL188.

Annual Reporting
[December]
Schedule | Item | Item name | MDRM No.
RC-M | 9 | Do any of the bank's internet websites have transactional capability, i.e., allow the bank's customers to execute transactions on their accounts through the website? | RCON4088.
RC-M | 14.a | Total assets of captive insurance subsidiaries | RCONK193.
RC-M | 14.b | Total assets of captive reinsurance subsidiaries | RCONK194.

Data Items With an Increase in Reporting Threshold

Schedule RC-D is to be completed by banks that reported total trading assets of $10 million or more in any of the four preceding calendar quarters and all banks meeting the FDIC's definition of a large or highly complex institution for deposit insurance assessment purposes.

To Be Completed by Banks With $10 Billion or More in Total Assets
Schedule | Item | Item name | MDRM No.
RC-B | M5.a | Asset-backed securities: Credit card receivables (Columns A, B, C, and D) | RCONB838, RCONB839, RCONB840, RCONB841.
RC-B | M5.b | Asset-backed securities: Home equity lines (Columns A, B, C, and D) | RCONB842, RCONB843, RCONB844, RCONB845.
RC-B | M5.c | Asset-backed securities: Automobile loans (Columns A, B, C, and D) | RCONB846, RCONB847, RCONB848, RCONB849.
RC-B | M5.d | Asset-backed securities: Other consumer loans (Columns A, B, C, and D) | RCONB850, RCONB851, RCONB852, RCONB853.
RC-B | M5.e | Asset-backed securities: Commercial and industrial loans (Columns A, B, C, and D) | RCONB854, RCONB855, RCONB856, RCONB857.
RC-B | M5.f | Asset-backed securities: Other (Columns A, B, C, and D) | RCONB858, RCONB859, RCONB860, RCONB861.
RC-B | M6.a | Structured financial products by underlying collateral or reference assets: Trust preferred securities issued by financial institutions (Columns A through D) | RCONG348, RCONG349, RCONG350, RCONG351.
RC-B | M6.b | Structured financial products by underlying collateral or reference assets: Trust preferred securities issued by real estate investment trusts (Columns A through D) | RCONG352, RCONG353, RCONG354, RCONG355.
RC-B | M6.c | Structured financial products by underlying collateral or reference assets: Corporate and similar loans (Columns A through D) | RCONG356, RCONG357, RCONG358, RCONG359.
RC-B | M6.d | Structured financial products by underlying collateral or reference assets: 1-4 family residential MBS issued or guaranteed by U.S. Government-sponsored enterprises (GSEs) (Columns A through D) | RCONG360, RCONG361, RCONG362, RCONG363.
RC-B | M6.e | Structured financial products by underlying collateral or reference assets: 1-4 family residential MBS not issued or guaranteed by GSEs (Columns A through D) | RCONG364, RCONG365, RCONG366, RCONG367.
RC-B | M6.f | Structured financial products by underlying collateral or reference assets: Diversified (mixed) pools of structured financial products (Columns A through D) | RCONG368, RCONG369, RCONG370, RCONG371.
RC-B | M6.g | Structured financial products by underlying collateral or reference assets: Other collateral or reference assets (Columns A through D) | RCONG372, RCONG373, RCONG374, RCONG375.

To Be Completed by Banks With Components of Other Noninterest Income in Amounts Greater Than $100,000 That Exceed 7 Percent of Schedule RI, item 5.l
Schedule | Item | Item name | MDRM No.
RI-E | 1.a through 1.l | Other noninterest income (from Schedule RI, item 5.l) | RIADC013, RIADC014, RIADC016, RIAD4042, RIADC015, RIADF555, RIADT047, RIAD4461, RIAD4462, RIAD4463.

To Be Completed by Banks With Components of Other Noninterest Expense in Amounts Greater Than $100,000 That Exceed 7 Percent of Schedule RI, item 7.d
Schedule | Item | Item name | MDRM No.
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468.

To Be Completed by Banks With Total Trading Assets of $10 Million or More in Any of the Four Preceding Calendar Quarters and all Banks Meeting the FDIC's Definition of a Large or Highly Complex Institution for Deposit Insurance Assessment Purposes
Schedule | Item | Item name | MDRM No.
RC-K | 7 | Trading assets | RCON3401.

Appendix D—FFIEC 031: To Be Completed by Banks With Domestic and Foreign Offices and Banks With Domestic Offices Only and Consolidated Total Assets of $100 Billion or More

Data Items Removed, Other Impacts to Data Items, Data Items With a Reduction in Frequency of Collection, or Data Items with an Increase in Reporting Threshold

Data Items Removed
Schedule | Item | Item name | MDRM No.
RI-E | 1.f | Net change in the fair values of financial instruments accounted for under a fair value option | RIADF229.
RI-E | 1.h | Gains on bargain purchases | RIADJ447.
RC | 10.a | Goodwill | RCFD3163.
|  | Note: Schedule RC, item 10.a will be moved to Schedule RC-M, new item 2.b
RC | 10.b | Other intangible assets Note: Items 10.a and 10.b of Schedule RC will be combined into one data item | RCFD0426.
RC-B | 2.a | U.S. Government agency obligations (exclude mortgage-backed securities): Issued by U.S. Government agencies (Columns A through D) | RCFD1289, RCFD1290, RCFD1291, RCFD1293.
RC-B | 2.b | U.S. Government agency obligations (exclude mortgage-backed securities): Issued by U.S. Government-sponsored agencies (Columns A through D) | RCFD1294, RCFD1295, RCFD1297, RCFD1298.
|  | Note: Items 2.a and 2.b of Schedule RC-B will be combined into one data item
RC-B | 5.b.(1) | Structured financial products: Cash (Columns A through D). | RCFDG336, RCFDG337, RCFDG338, RCFDG339.
RC-B | 5.b.(2) | Structured financial products: Synthetic (Columns A through D) | RCFDG340, RCFDG341, RCFDG342, RCFDG343.
RC-B | 5.b.(3) | Structured financial products: Hybrid (Columns A through D). | RCFDG344, RCFDG345, RCFDG346, RCFDG347.
|  | Note: Items 5.b.(1), 5.b.(2), and 5.b.(3) of Schedule RC-B will be combined into one data item
RC-D | All data items reported in Column B, “Domestic offices” | Column B, “Domestic offices” Note: Data items 6.a.(1) through 6.a.(5), Column B, will be combined into two data items to be collected for the consolidated bank in Column A, which will replace data item 6.a, Column A. In addition, data items M1.a.(1) through M1.a.(5), Column B, will be combined into two data items to be collected for the consolidated bank in Column A, which will replace data item M.1.a, Column A. Data items 12 and 15, Column B, will be moved to Schedule RC-H, new items 19 and 20. Data items 6.a.(1) through 6.d, Column B, will be combined into one data item and moved to Schedule RC-H, new item 21. | RCON3531, RCON3532, RCON3533, RCONG379, RCONG380, RCONG381, RCONK197, RCONK198, RCONG383, RCONG384, RCONG385, RCONG386, RCONF604, RCONF605, RCONF606, RCONF607, RCONF611, RCONF612, RCONF613, RCONF614, RCONF615, RCONF616, RCONK199, RCONK210, RCONF618, RCON3541, RCON3543, RCON3545, RCON3546, RCONF624, RCON3547, RCON3548, RCONF625, RCONF626, RCONF627, RCONF628, RCONF629, RCONF630, RCONF631, RCONF632, RCONF633, RCONF634, RCONK200, RCONK211, RCONF636, RCONF639, RCONF640, RCONG299, RCONG332, RCONG333, RCONG334, RCONG335, RCONG651, RCONG652, RCONG387, RCONG388.
RC-D | 5.a.(1) | Structured financial products: Cash (Column A) | RCFDG383.
RC-D | 5.a.(2) | Structured financial products: Synthetic (Column A) | RCFDG384.
RC-D | 5.a.(3) | Structured financial products: Hybrid (Column A) | RCFDG385.
|  | Note: Items 5.a.(1), 5.a.(2), and 5.a.(3) of Schedule RC-D, Column A, will be combined into one data item
RC-D | 6.a | Loans secured by real estate (Column A) | RCFDF610.
RC-D | 6.c.(1) | Loans to individuals for household, family, and other personal expenditures: Credit cards (Column A) | RCFDF615.
RC-D | 6.c.(2) | Loans to individuals for household, family, and other personal expenditures: Other revolving credit plans (Column A) | RCFDF616.
RC-D | 6.c.(3) | Loans to individuals for household, family, and other personal expenditures: Automobile loans (Column A) | RCFDK199.
RC-D | 6.c.(4) | Loans to individuals for household, family, and other personal expenditures: Other consumer loans | RCFDK210.
|  | Note: Items 6.c.(1), 6.c.(2), 6.c.(3), and 6.c.(4) of Schedule RC-D, Column A, will be combined into one data item
RC-D | M1.a | Unpaid principal balance of loans measured at fair value: Loans secured by real estate (Column A) | RCFDF790.
RC-D | M1.c.(1) | Unpaid principal balance of loans measured at fair value: Loans to individuals for household, family, and other personal expenditures: Credit cards (Column A) | RCFDF633.
RC-D | M1.c.(2) | Unpaid principal balance of loans measured at fair value: Loans to individuals for household, family, and other personal expenditures: Other revolving credit plans (Column A) | RCFDF634.
RC-D | M1.c.(3) | Unpaid principal balance of loans measured at fair value: Loans to individuals for household, family, and other personal expenditures: Automobile loans (Column A) | RCFDK200.
RC-D | M1.c.(4) | Unpaid principal balance of loans measured at fair value: Loans to individuals for household, family, and other personal expenditures: Other consumer loans (Column A) | RCFDK211.
|  | Note: Items M1.c.(1), M1.c.(2), M1.c.(3), and M1.c.(4) of Schedule RC-D, Column A, will be combined into one data item.
RC-D | M6 | Retained beneficial interests in securitizations | RCFDF651.
RC-L | 1.a.(1) | Unused commitments for Home Equity Conversion Mortgage (HECM) reverse mortgages outstanding that are held for investment | RCONJ477.
RC-L | 1.a.(2) | Unused commitments for proprietary reverse mortgages outstanding that are held for investment | RCONJ478.
|  | Note: Items 1.a.(1) and 1.a.(2) of Schedule RC-L will be combined into one data item
RC-L | 16.a | Over-the-counter derivatives: Net current credit exposure (Column B) | RCFDG419.
RC-L | 16.b.(1) | Over-the-counter derivatives: Fair value of collateral: Cash—U.S. dollar (Column B) | RCFDG424.
RC-L | 16.b.(2) | Over-the-counter derivatives: Fair value of collateral: Cash—Other currencies (Column B) | RCFDG429.
RC-L | 16.b.(3) | Over-the-counter derivatives: Fair value of collateral: U.S. Treasury securities (Column B) | RCFDG434.
RC-L | 16.b.(4) | Over-the-counter derivatives: Fair value of collateral: U.S. Government agency and U.S. Government-sponsored agency debt securities (Column B) | RCFDG439.
RC-L | 16.b.(5) | Over-the-counter derivatives: Fair value of collateral: Corporate bonds (Column B) | RCFDG444.
RC-L | 16.b.(6) | Over-the-counter derivatives: Fair value of collateral: Equity securities (Column B) | RCFDG449.
RC-L | 16.b.(7) | Over-the-counter derivatives: Fair value of collateral: All other collateral (Column B) | RCFDG454.
RC-L | 16.b.(8) | Over-the-counter derivatives: Fair value of collateral: Total fair value of collateral (Column B) | RCFDG459.
|  | Note: Amounts reported in items 16.a, 16.b.(1), 16.b.(2), 16.b.(3), 16.b.(4), 16.b.(5), 16.b.(6), 16.b.(7), and 16.b.(8), Column B, will be included in items 16.a, 16.b.(1), 16.b.(2), 16.b.(3), 16.b.(4), 16.b.(5), 16.b.(6), 16.b.(7), and 16.b.(8), Column E
RC-M | 2.b | Purchased credit card relationships and nonmortgage servicing assets | RCFDB026.
|  | Note: Amounts reported in item 2.b will be included in item 2.c, All other identifiable intangible assets
RC-M | 3.f | Foreclosed properties from “GNMA loans” | RCONC979.
|  | Note: Amounts reported in item 3.f will be included in item 3.c, Other real estate owned: 1-4 family residential properties.

Other Impacts to Data Items
Schedule | Item | Item name | MDRM No.
RC | 10 (New) | Intangible assets | RCFD2143.
|  | Note: Items 10.a and 10.b of Schedule RC will be combined into this data item
RC-B | 2 (New) | U.S. Government agency and sponsored agency obligations (exclude mortgage-backed securities) (Columns A through D) | TBD (4 MDRMs).
|  | Note: Items 2.a and 2.b of Schedule RC-B removed above will be combined into this data item (Columns A through D)
RC-B | 5.b (New) | Structured financial products (Columns A through D) | TBD (4 MDRMs).
|  | Note: Items 5.b.(1), 5.b.(2), and 5.b.(3) of Schedule RC-B removed above will be combined into this data item (Columns A through D)
RC-D | 5.a (New) | Structured financial products Note: Items 5.a.(1), 5.a.(2), and 5.a.(3) of Schedule RC-D, Column A, removed above will be combined into this data item | TBD.
RC-D | 6.a.(1) (New) | Loans secured by 1-4 family residential properties | TBD.
|  | Note: Items 6.a.(3)(a), 6.a.(3)(b)(1), and 6.a.(3)(b)(2) of Schedule RC-D, Column B, removed above will be combined into this data item for the consolidated bank in Column A, which will partially replace item 6.a, Column A
RC-D | 6.a.(2) (New) | All other loans secured by real estate | TBD.
|  | Note: Items 6.a.(1), 6.a.(2), 6.a.(4), and 6.a.(5) of Schedule RC-D, Column B, removed above will be combined into this data item for the consolidated bank in Column A, which will partially replace item 6.a, Column A
RC-D | 6.c (New) | Loans to individuals for household, family and other personal expenditures (i.e., consumer loans) (includes purchased paper) | TBD.
|  | Note: Items 6.c.(1), 6.c.(2), 6.c.(3), and 6.c.(4) of Schedule RC-D removed above will be combined into this data item
RC-D | M1.a.(1) (New) | Unpaid principal balance of loans measured at fair value: Loans secured by 1-4 family residential properties | TBD.
|  | Note: Items M1.a.(3)(a), M1.a.(3)(b)(1), and M1.a.(3)(b)(2) of Schedule RC-D, Column B, removed above will be combined into this data item for the consolidated bank in Column A, which will partially replace item M.1.a, Column A
RC-D | M1.a.(2) (New) | Unpaid principal balance of loans measured at fair value: All other loans secured by real estate | TBD.
|  | Note: Items M1.a.(1), M1.a.(2), M1.a.(4), and M1.a.(5) of Schedule RC-D, Column B, removed above will be combined into this data item for the consolidated bank in Column A, which will partially replace item M.1.a, Column A
RC-D | M1.c (New) | Unpaid principal balance of loans measured at fair value: Loans to individuals for household, family, and other personal expenditures (i.e., consumer loans) (includes purchased paper) | TBD.
|  | Note: Items M1.c.(1), M1.c.(2), M1.c.(3), and M1.c.(4) of Schedule RC-D, Column A, removed above will be combined into this data item
RC-H | 19 (Re-mapping) | Total trading assets | RCON3545.
|  | Note: Schedule RC-D, item 12, Column B, will be moved to Schedule RC-H, item 19. The proposed threshold change applicable to Schedule RC-D applies to this item
RC-H | 20 (Re-mapping) | Total trading liabilities | RCON3548.
|  | Note: Schedule RC-D, item 15, Column B, will be moved to Schedule RC-H, item 20. The proposed threshold change applicable to Schedule RC-D applies to this item
RC-H | 21 (New) | Total loans held for trading | TBD.
|  | Note: The proposed threshold change applicable to Schedule RC-D applies to this item
RC-L | 1.a (New) | Unused commitments for reverse mortgages outstanding that are held for investment | TBD.
|  | Note: Items 1.a.(1) and 1.a.(2) of Schedule RC-L removed above will be combined into this data item.
RC-M | 2.b (Re-mapping) | Goodwill | RCFD3163.
|  | Note: Schedule RC, item 10.a will be moved to Schedule RC-M, new item 2.b., and the phrase “other than goodwill” will be removed from the caption for Schedule RC-M, item 2.

Data Items With a Reduction in Frequency of Collection

Semiannual Reporting
[June 30 and December 31]
Schedule | Item | Item name | MDRM No.
RI | M12 | Noncash income from negative amortization on closed-end loans secured by 1-4 family residential properties | RIADF228.
RC-B | M3 | Amortized cost of held-to-maturity securities sold or transferred to available-for-sale or trading securities during the calendar year-to-date | RCFD1778.
RC-C, Part I | M7.a | Purchased credit-impaired loans held for investment accounted for in accordance with FASB ASC 310-30: Outstanding balance | RCFDC779.
RC-C, Part I | M7.b | Purchased credit-impaired loans held for investment accounted for in accordance with FASB ASC 310-30: Amount included in Schedule RC-C, Part I, items 1 through 9 | RCFDC780.
RC-C, Part I | M8.a | Total amount of closed-end loans with negative amortization features secured by 1-4 family residential properties | RCONF230.
RC-C, Part I | M8.b | Total maximum remaining amount of negative amortization contractually permitted on closed-end loans secured by 1-4 family residential properties | RCONF231.
RC-C, Part I | M8.c | Total amount of negative amortization on closed-end loans secured by 1-4 family residential properties included in the amount reported in Memorandum item 8.a above | RCONF232.
RC-C, Part I | M12.a | Loans (not subject to the requirements of FASB ASC 310-30 (former AICPA Statement of Position 03-3)) and leases held for investment that were acquired in business combinations with acquisition dates in the current calendar year: Loans secured by real estate (Columns A through C) | RCFDG091, RCFDG092, RCFDG093.
RC-C, Part I | M12.b | Loans (not subject to the requirements of FASB ASC 310-30 (former AICPA Statement of Position 03-3)) and leases held for investment that were acquired in business combinations with acquisition dates in the current calendar year: Commercial and industrial loans (Columns A through C) | RCFDG094, RCFDG095, RCFDG096.
RC-C, Part I | M12.c | Loans (not subject to the requirements of FASB ASC 310-30 (former AICPA Statement of Position 03-3)) and leases held for investment that were acquired in business combinations with acquisition dates in the current calendar year: Loans to individuals for household, family, and other personal expenditures (Columns A through C) | RCFDG097, RCFDG098, RCFDG099.
RC-C, Part I | M12.d | Loans (not subject to the requirements of FASB ASC 310-30 (former AICPA Statement of Position 03-3)) and leases held for investment that were acquired in business combinations with acquisition dates in the current calendar year: All other loans and all leases (Columns A through C) | RCFDG100, RCFDG101, RCFDG102.
RC-L | 1.b.(1) | Unused consumer credit card lines | RCFDJ455.
RC-L | 1.b.(2) | Other unused credit card lines | RCFDJ456.
RC-L | 11.a | Year-to-date merchant credit card sales volume: Sales for which the reporting bank is the acquiring bank | RCFDC223.
RC-L | 11.b | Year-to-date merchant credit card sales volume: Sales for which the reporting bank is the agent bank with risk | RCFDC224.
RC-N | M7 | Additions to nonaccrual assets during the quarter | RCFDC410.
|  | Note: This caption would be revised to “Additions to nonaccrual assets during the last 6 months.”
RC-N | M8 | Nonaccrual assets sold during the quarter Note: This caption would be revised to ”Nonaccrual assets sold during the last 6 months.” | RCFDC411.
RC-N | M9.a | Purchased credit-impaired loans accounted for in accordance with FASB ASC 310-30 (former AICPA Statement of Position 03-3): Outstanding balance (Columns A through C) | RCFDL183, RCFDL184, RCFDL185.
RC-N | M9.b | Purchased credit-impaired loans accounted for in accordance with FASB ASC 310-30 (former AICPA Statement of Position 03-3): Amount included in Schedule RC-N, items 1 through 7, above (Columns A through C) | RCFDL186, RCFDL187, RCFDL188.

Annual Reporting
[December]
Schedule | Item | Item name | MDRM No.
RC-M | 9 | Do any of the bank's Internet websites have transactional capability, i.e., allow the bank's customers to execute transactions on their accounts through the website? | RCFD4088.
RC-M | 14.a | Total assets of captive insurance subsidiaries | RCFDK193.
RC-M | 14.b | Total assets of captive reinsurance subsidiaries | RCFDK194.

Data Items With an Increase in Reporting Threshold

Schedule RI-D is to be completed by banks with foreign offices (including Edge or Agreement subsidiaries and International Banking Facilities) and $10 billion or more in total assets where foreign office revenues, assets, or net income exceed 10 percent of consolidated total revenues, total assets, or net income.

Schedule RC-D is to be completed by banks that reported total trading assets of $10 million or more in any of the four preceding calendar quarters and all banks meeting the FDIC's definition of a large or highly complex institution for deposit insurance assessment purposes.

To Be Completed by Banks With $10 Billion or More in Total Assets
Schedule | Item | Item name | MDRM No.
RC-B | M5.a | Asset-backed securities: Credit card receivables (Columns A, B, C, and D) | RCFDB838, RCFDB839, RCFDB840, RCFDB841.
RC-B | M5.b | Asset-backed securities: Home equity lines (Columns A, B, C, and D) | RCFDB842, RCFDB843, RCFDB844, RCFDB845.
RC-B | M5.c | Asset-backed securities: Automobile loans (Columns A, B, C, and D) | RCFDB846, RCFDB847, RCFDB848, RCFDB849.
RC-B | M5.d | Asset-backed securities: Other consumer loans (Columns A, B, C, and D) | RCFDB850, RCFDB851, RCFDB852, RCFDB853.
RC-B | M5.e | Asset-backed securities: Commercial and industrial loans (Columns A, B, C, and D) | RCFDB854, RCFDB855, RCFDB856, RCFDB857.
RC-B | M5.f | Asset-backed securities: Other (Columns A, B, C, and D) | RCFDB858, RCFDB859, RCFDB860, RCFDB861.
RC-B | M6.a | Structured financial products by underlying collateral or reference assets: Trust preferred securities issued by financial institutions (Columns A through D) | RCFDG348, RCFDG349, RCFDG350, RCFDG351.
RC-B | M6.b | Structured financial products by underlying collateral or reference assets: Trust preferred securities issued by real estate investment trusts (Columns A through D) | RCFDG352, RCFDG353, RCFDG354, RCFDG355.
RC-B | M6.c | Structured financial products by underlying collateral or reference assets: Corporate and similar loans (Columns A through D) | RCFDG356, RCFDG357, RCFDG358, RCFDG359.
RC-B | M6.d | Structured financial products by underlying collateral or reference assets: 1-4 family residential MBS issued or guaranteed by U.S. Government-sponsored enterprises (GSEs) (Columns A through D) | RCFDG360, RCFDG361, RCFDG362, RCFDG363.
RC-B | M6.e | Structured financial products by underlying collateral or reference assets: 1-4 family residential MBS not issued or guaranteed by GSEs (Columns A through D) | RCFDG364, RCFDG365, RCFDG366, RCFDG367.
RC-B | M6.f | Structured financial products by underlying collateral or reference assets: Diversified (mixed) pools of structured financial products (Columns A through D) | RCFDG368, RCFDG369, RCFDG370, RCFDG371.
RC-B | M6.g | Structured financial products by underlying collateral or reference assets: Other collateral or reference assets (Columns A through D) | RCFDG372, RCFDG373, RCFDG374, RCFDG375.

To Be Completed by Banks With $10 Billion or More in Total Trading Assets
Schedule | Item | Item name | MDRM No.
RC-D | M2.a | Loans measured at fair value that are past due 90 days or more: Fair value (Column A) | RCFDF639.
RC-D | M2.b | Loans measured at fair value that are past due 90 days or more: Unpaid principal balance (Column A) | RCFDF640.
RC-D | M3.a | Structured financial products by underlying collateral or reference assets: Trust preferred securities issued by financial institutions (Column A) | RCFDG299.
RC-D | M3.b | Structured financial products by underlying collateral or reference assets: Trust preferred securities issued by real estate investment trusts (Column A) | RCFDG332.
RC-D | M3.c | Structured financial products by underlying collateral or reference assets: Corporate and similar loans (Column A) | RCFDG333.
RC-D | M3.d | Structured financial products by underlying collateral or reference assets: 1-4 family residential MBS issued or guaranteed by U.S. Government-sponsored enterprises (GSEs) (Column A) | RCFDG334.
RC-D | M3.e | Structured financial products by underlying collateral or reference assets: 1-4 family residential MBS not issued or guaranteed by GSEs (Column A) | RCFDG335.
RC-D | M3.f | Structured financial products by underlying collateral or reference assets: Diversified (mixed) pools of structured financial products (Column A) | RCFDG651.
RC-D | M3.g | Structured financial products by underlying collateral or reference assets: Other collateral or reference assets (Column A) | RCFDG652.
RC-D | M4.a | Pledged trading assets: Pledged securities (Column A) | RCFDG387.
RC-D | M4.b | Pledged trading assets: Pledged loans (Column A) | RCFDG388.
RC-D | M5.a | Asset-backed securities: Credit card receivables | RCFDF643.
RC-D | M5.b | Asset-backed securities: Home equity lines | RCFDF644.
RC-D | M5.c | Asset-backed securities: Automobile loans | RCFDF645.
RC-D | M5.d | Asset-backed securities: Other consumer loans | RCFDF646.
RC-D | M5.e | Asset-backed securities: Commercial and industrial loans | RCFDF647.
RC-D | M5.f | Asset-backed securities: Other | RCFDF648.
RC-D | M7.a | Equity securities: Readily determinable fair values | RCFDF652.
RC-D | M7.b | Equity securities: Other | RCFDF653.
RC-D | M8 | Loans pending securitization | RCFDF654.
RC-D | M9 | Other trading assets | RCFDF655, RCFDF656, RCFDF657.
RC-D | M10 | Other trading liabilities | RCFDF658, RCFDF659, RCFDF660.

To Be Completed by Banks With Total Trading Assets of $10 Million or More for Any Quarter of the Preceding Calendar Year
Schedule | Item | Item name | MDRM No.
RI | M8.a | Trading revenue: Interest rate exposures | RIAD8757.
RI | M8.b | Trading revenue: Foreign exchange exposures | RIAD8758.
RI | M8.c | Trading revenue: Equity security and index exposures | RIAD8759.
RI | M8.d | Trading revenue: Commodity and other exposures | RIAD8760.
RI | M8.e | Trading revenue: Credit exposures | RIADF186.

To Be Completed by Banks With Components of Other Noninterest Income in Amounts Greater Than $100,000 That Exceed 7 Percent of Schedule RI, Item 5.l
Schedule | Item | Item name | MDRM No.
RI-E | 1.a through 1.l | Other noninterest income (from Schedule RI, item 5.l) | RIADC013, RIADC014, RIADC016, RIAD4042, RIADC015, RIADF555, RIADT047, RIAD4461, RIAD4462, RIAD4463.

To Be Completed by Banks With Components of Other Noninterest Expense in Amounts Greater Than $100,000 That Exceed 7 Percent of Schedule RI, Item 7.d
Schedule | Item | Item name | MDRM No.
RI-E | 2.a through 2.p | Other noninterest expense (from Schedule RI, item 7.d) | RIADC017, RIAD0497, RIAD4136, RIADC018, RIAD8403, RIAD4141, RIAD4146, RIADF556, RIADF557, RIADF558, RIADF559, RIADY923, RIADY924, RIAD4464, RIAD4467, RIAD4468.

To Be Completed by Banks With Total Trading Assets of $10 Million or More in Any of the Four Preceding Calendar Quarters and All Banks Meeting the FDIC's Definition of a Large or Highly Complex Institution for Deposit Insurance Assessment Purposes
Schedule | Item | Item name | MDRM No.
RC-K | 7 | Trading assets | RCFD3401.

Dated: January 2, 2018.
Karen Solomon,
Acting Senior Deputy Comptroller and Chief Counsel, Office of the Comptroller of the Currency.
Board of Governors of the Federal Reserve System, December 27, 2017.
Ann E. Misback,
Secretary of the Board.
Dated at Washington, DC, on December 27, 2017.
Federal Deposit Insurance Corporation.
Robert E. Feldman,
Executive Secretary.

[FR Doc. 2018-00122 Filed 1-5-18; 8:45 am]

BILLING CODE 4810-33-P; 6210-01-P; 6714-01-P